DEPARTMENT OF COMMERCE

National Oceanic and Atmospheric Administration

50 CFR Part 660

[Docket No. 190226166-9166-01]

RIN 0648-BI89

Magnuson-Stevens Act Provisions; Fisheries Off West Coast States; Pacific Coast Groundfish Fishery; Pacific Coast Groundfish Fishery Management Plan; Amendment 28

AGENCY: National Marine Fisheries Service (NMFS), National Oceanic and Atmospheric Administration (NOAA), Commerce.

ACTION: Proposed rule; request for comments.

SUMMARY: In Amendment 28 to the Pacific Coast Groundfish Fishery Management Plan, NMFS proposes changes to closed areas that affect commercial vessels fishing with bottom contacting gear in Federal waters off of Washington, Oregon, and California under the Pacific Coast Groundfish Fishery Management Plan. The proposed action would establish new and revised areas closed to bottom trawling to conserve and protect Pacific coast groundfish essential fish habitat, and re-open areas that were closed to bottom trawling to rebuild previously-overfished groundfish stocks. Combined, these two changes are anticipated to increase protections for groundfish essential fish habitat and provide additional flexibility to participants fishing with bottom trawl gear in the groundfish trawl rationalization program. Amendment 28 would also close deep-water areas off the coast of California to bottom contacting gear to protect deep-water habitats, including deep-sea corals, under fishery management plan discretionary provisions in the Magnuson-Stevens Fishery Conservation and Management Act.

DATES: Comments on this proposed rule must be received on or before September 16, 2019.

ADDRESSES: You may submit comments on this document, identified by NOAA-NMFS-2019-0039, by any of the following methods:

• Electronic Submission: Submit all electronic public comments via the Federal e-Rulemaking Portal. Go to www.regulations.gov/#!docketDetail;D=NOAA-NMFS-2019-0039, click the “Comment Now!” icon, complete the required fields, and enter or attach your comments.

• Mail: Submit written comments to Gretchen Hanshew, Sustainable Fisheries Division, 7600 Sand Point Way NE, Seattle, WA 98115.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Information relevant to Amendment 28, which includes a draft Environmental Impact Statement, a regulatory impact review, and a Regulatory Flexibility Act certification are available for public review during business hours at the NMFS West Coast Regional Office at 7600 Sand Point Way NE, Seattle, WA 98115, or by requesting them via phone or the email address listed in the FOR FURTHER INFORMATION CONTACT section. Copies of additional reports referred to in this document may also be obtained from the Pacific Fishery Management Council. These documents are also available at the Council's website at http://www.pcouncil.org/groundfish/fishery-management-plan/groundfish-amendments-in-development/. Additional background documents are available at the NMFS West Coast Region website at http://www.westcoast.fisheries.noaa.gov/fisheries/groundfish/index.html.

FOR FURTHER INFORMATION CONTACT: Gretchen Hanshew, phone: 206-526-6147, or email: Gretchen.Hanshew@noaa.gov.

SUPPLEMENTARY INFORMATION:

Table of Contents

Background

Goals and Objectives

Revisions to EFH Conservation Areas

Changes to Fishery Management Measures

Discretionary Management Measures To Protect Deep-Water Habitats, Including Deep-Sea Corals

Regulatory Changes

Classification

Background

This action would implement management measures from Amendment 28 to the Pacific Coast Groundfish Fishery Management Plan (FMP). The Pacific Fishery Management Council (Council) deemed the proposed regulations consistent with and necessary to implement Amendment 28 in a June 3, 2019, letter from Council Chairman Phil Anderson to Regional Administrator Barry Thom. The Notice of Availability for Amendment 28 published on June 11, 2019, (84 FR 27072) and describes details of FMP changes relating to this action. Under the Magnuson-Stevens Fishery Conservation and Management Act (Magnuson-Stevens Act), we are required to publish proposed rules for comment after preliminarily determining whether they are consistent with applicable law. The Magnuson-Stevens Act permits us to approve, partially approve, or disapprove measures proposed by the Council based only on whether the measures are consistent with the fishery management plan, plan amendment, the Magnuson-Stevens Act and its National Standards, and other applicable law. Otherwise, we must defer to the Council's policy choices. We are seeking comment on the Council's proposed measures in Amendment 28.

Through Amendment 28, the Council proposes to augment existing essential fish habitat (EFH) protection measures, reopen historically important fishing grounds, and protect deep-water habitats, including deep-sea corals. The Magnuson-Stevens Act regulations recommend that councils periodically review the EFH provisions of FMPs and revise or amend as warranted, based on the available information. The Council began its review of EFH components to comply with these requirements, and conducted its review of EFH from 2010 through 2014. The Council initiated Amendment 28 in 2014 after it determined that new information warranted considering changes to the EFH components in the FMP. In 2014, the Council was also considering reopening a year-round bottom trawl closure, known as the trawl rockfish conservation area, because of the successes of the trawl rationalization program and the positive stock status trajectories of rebuilding stocks. Prior to detailed consideration of changes for either purpose, the Council determined it was important to consider revisions to fishery management measures in conjunction with EFH components because of the overlap between the two actions. The Council also determined that deep-water habitats, including deep-sea corals in areas of the exclusive economic zone (EEZ) that were not designated EFH warranted protection, and recommended closures to certain types of fishing activities using discretionary authority under the Magnuson-Stevens Act. In addition to FMP changes that directly impact fishing activity, Amendment 28 also revises the FMP by updating the descriptions of EFH designated in 2006 under Amendment 19 to the Pacific Coast Groundfish FMP, description of major prey species, and fishing and non-fishing impacts evaluation.

Goals and Objectives

Amendment 28 was developed over several years. The Council established three goals and used nine objectives to guide development of this action. Goal 1 was to minimize to the extent practicable the effects of fishing on EFH. Goal 2 was to re-evaluate the use of closed areas as a fishery management tool in the post-rationalization fishery. Goal 3 was to protect deep-sea habitats, including corals, from the effects of prospective fishing.

The nine objectives map to one or more of the Amendment's three goals and provide more guidance on achieving each goal. The primary objective for goal 1 is identifying new data sources upon which to base habitat protection measures. The Council also considered the five objectives of Amendment 19, which include protecting a diversity of habitat types, protecting a range of habitat types associated with the 90+ species in the FMP, prioritizing protection of pristine habitats, dispersing socioeconomic effects, and fostering comparative scientific research. The primary objective for goal 2 is to transition from depth-based closures to individual accountability of the Shorebased Individual Fishing Quota (IFQ) Program as the primary catch control tool. This will better meet the utilization goals of the FMP, achieve optimum yield, and allow for improvements in economic efficiency. The primary objective for goal 3 is to conserve and protect pristine habitats, including deep-sea coral, which are outside of designated EFH.

Revisions to EFH Conservation Areas

The Magnuson-Stevens Act requires that fishery management plans evaluate and minimize, to the extent practicable, the adverse effects of fishing on EFH. The evaluation should consider the effects of each fishing activity on each type of habitat found within EFH. Councils must prevent, mitigate, or minimize any adverse effects from fishing on EFH, to the extent practicable, if there is evidence that a fishing activity adversely affects EFH in a manner that is more than minimal and not temporary in nature. For this discussion, we refer to actions that prevent, mitigate, or minimize adverse effects on EFH as habitat management. After completing its periodic review, the Council decided there was new information to warrant consideration of changes to habitat management within the existing habitat conservation framework in the FMP.

To evaluate the adverse effects of fishing on EFH, the Council adopted a comprehensive updated data set, including information gathered during the EFH five-year review. The data set included habitat types and their geographic distribution, probabilities of groundfish species occupying that habitat, and common threats to habitat types. In 2013, the Council published the data set and solicited public input on the types of changes that would minimize impacts of fishing to EFH, including rationale supported by science and explanations of practicability.

The Council received proposals for habitat management changes between 2013 and 2016. Proposals focused on changes to the primary habitat management tool; EFH conservation areas. Proposals identified new closed areas and relatively minor adjustments to existing management areas through input from ecosystem and habitat scientists, fishermen, environmental groups, and the public. Because this process resulted in so many potential areas and combinations of areas, the Council appointed an ad hoc committee to evaluate proposals for technical merit and consistency with the goals and objectives of Amendment 28. After initial screening and public comment, the Council selected all or part of several proposals and developed suites of potential EFH conservation areas (e.g., areas to close and areas to reopen). These suites formed the preliminary range of alternatives, adopted by the Council in September 2015, that would undergo more detailed analysis and review during Council meetings over the next several years. After periodic analytical updates and consideration of extensive public comment, the Council, in April 2018, adopted a final preferred alternative that made coastwide changes to habitat management.

The Council's final preferred alternative and a brief description of the Council's rationale for its preferences are included below. For a thorough discussion of the other alternatives considered and the potential impacts from those alternatives, please see Chapters 2, 4, and 5 of the Draft Environmental Impact State (DEIS). Collectively, descriptions of changes to habitat management, including maps of closed areas, can be found in Chapter 2 of the DEIS. Coordinates defining the Council's preferred alternative can be found in Appendix C3 of the FMP.

This rule proposes to approve all of the Council's recommendations for habitat management. Coastwide, the Council recommends an additional closure of over 12,000 square miles (31,000 square km) of the EEZ and re-opening over 200 square miles (518 square km) of the EEZ to bottom trawl gear, which adversely affects groundfish EFH. The newly recommended closures would protect a variety of ocean floor types (substrates) designated as groundfish EFH, and include areas designated as habitat areas of particular concern. In particular, closed areas would protect submarine canyons, seamounts, methane seeps, deep-sea corals as well as stationary three-dimensional invertebrates like sponges and corals. These substrates are associated with groundfish. For example, statistical analysis of underwater video research indicates that groundfish are much more likely to be seen in areas with sponges than without. Revisions to existing EFH conservation areas expand closures to protect important habitat features, but reopen habitats with lower sensitivity and faster recovery to disturbance. Impacts to fishing communities are anticipated to be minimal, because very little fishing effort occurs in the areas to be closed (less than 2 percent of the total groundfish landings and revenues on either a coastwide or port-group level). Overall, the Council's recommendation, in combination with existing habitat management measures that remain unchanged, minimizes the adverse effects of fishing on groundfish EFH while mitigating negative socioeconomic effects to fishing communities.

The Council recommended no additional habitat management measures within the tribal usual and accustomed (U&A) fishing areas off the Washington coast. Several areas, however, were permanently closed to bottom trawl within the U&A fishing areas by Amendment 19 in 2006. The Council articulated several reasons for its decision to recommend no additional measures in the tribal U&A. First, tribes' treaty fishing rights are tied to place, and spatial habitat management could impede the ability of tribes to exercise their treaty fishing rights. The Council acknowledges efforts by NMFS and the tribes to engage in consultation regarding further habitat management within the U&A fishing area. Second, there is ongoing litigation regarding the boundaries of the tribal U&A fishing areas, which increases uncertainty in how habitat management in the area would affect the tribes' ability to exercise their treaty fishing rights. Given these factors, the Council excluded the U&A fishing areas from its preferred suite of habitat management measures eliminating direct effects to tribal fishing in the U&A fishing areas. There is a possibility of indirect effects to tribal fisheries in the form of displaced non-tribal fishing shifting into the U&A but those impacts are anticipated to be minimal. Changes to habitat management adjacent to the U&A fishing areas were limited in size (less than 50 square miles (129 square km), total). There is very little non-tribal fishing occurring in or being displaced from those areas that will experience changes in habitat management.

Changes to Fishery Management Measures

One of the three primary goals of the FMP is utilization of fishery resources within the constraints of conservation objectives. This goal directly relates to National Standard 1 of the Magnuson-Stevens Act, which states that conservation and management measures shall prevent overfishing while achieving, on a continuing basis, the optimum yield from each fishery for the United States fishing industry. The Council is obliged to balance the conflicting need to restrict fishing to protect the resource with providing sufficient allowable catch to sustain the fleet and coastal communities. The Council implemented a trawl rationalization program for the Pacific Coast groundfish fishery in 2011. The Trawl Rationalization Program replaced trip and landing limits in the Pacific Coast Groundfish fishery with an individual fishing quota (IFQ) management system and increased monitoring to 100 percent of trips and landings. The program left in place many of the spatial fishery management measures and gear restrictions from the trip limit era as a precaution to prevent inadvertent high catches of overfished species and lower risk of premature closure of an IFQ fishing year. With the individual accountability of the IFQ system, estimates of mortality became more precise, regulatory discard decreased, catches of overfished and protected species decreased, and trawl revenue increased. In April 2013, the Council recommended relieving some of these restrictions imposed during the trip limit era by reopening some areas that were closed to bottom trawling through inseason action. After NMFS' partial disapproval of these recommendations the Council undertook a process to consider how permanently reopening these areas closed to bottom trawling could impact EFH.

Since September 2014, the Council has considered changes to both habitat measures and bottom trawl fishery management measures as part of Amendment 28. As described above in section “Revisions to EFH Conservation Areas”, a preliminary range of alternatives was adopted by the Council for public review in September 2015, with subsequent opportunities for comment over the next few years. The Council recommended, in April 2018, changes to both EFH conservation areas and fishery management measures. The Council recommended re-opening areas to bottom trawl gear consistent with the economic and utilization objectives described in section 2.1 of the FMP.

The Council's final preferred alternative and a brief description of the Council's rationale for its preferences are included below. For a thorough discussion of the other alternatives considered and the potential impacts from those alternatives, please see Chapters 2, 4, and 5 of the DEIS. Maps can be found in Chapter 2 of the DEIS.

The Council recommended reopening a depth-based bottom trawl closure that has been in place coastwide since 2002. This closure, referred to in regulation as the groundfish trawl Rockfish Conservation Area (trawl RCA), prohibited fishing with trawl gear to reduce impacts to species that were overfished at that time; Pacific ocean perch and darkblotched rockfish. The trawl RCA covers an area of approximately 4,000 square miles (10,360 square km) extending between the U.S.-Canada border and the U.S.-Mexico border and the depths of approximately 100 fathoms (183 m) and 200 fathoms (366 m). North of 40°10′ N lat. the trawl RCA is closed to groundfish bottom trawl gear and south of 40°10′ N lat. it is closed to all groundfish trawl gear (bottom and midwater trawl). Amendment 28 would reopen the trawl RCA to bottom trawling off of Oregon and California, an area of over 2,000 square miles (5,180 square km). The reopening of the trawl RCA does not open areas otherwise closed to bottom trawling; e.g., habitat measures and state waters closed to bottom trawling that overlap with the trawl RCA would remain closed to bottom trawling. The Council recommended this change because of the success of the trawl rationalization program, established in 2011, at reducing bycatch of target and non-target stocks, including overfished and protected species. Since implementation, five of the seven previously overfished stocks are now rebuilt. The areas proposed to reopen were historically important fishing grounds, and it is anticipated that groundfish fishermen will have more flexibility and opportunities to improve the efficiency of their operations, which will benefit coastal communities. Additionally, the areas to be reopened are predominantly substrates that are the most resilient to disturbance and, when combined with the protections to EFH proposed in this rule, adverse effects to designated groundfish EFH will be minimized to the extent practicable. When considered together (EFH conservation areas and the trawl RCA overlap in places), changes to the coastwide network of EFH conservation areas and the reopening of the trawl RCA off Oregon and California would result in new bottom trawl closures totaling 13,151 square miles (34,061 square km) and reopening of 2,958 square miles (7,661 square km).

Reopening an area that has not been fished with bottom trawl gear for over 15 years is not without risk. The Council recommended, as part of this proposed rule, a new discrete spatial management tool that is more flexible and responsive than the trawl RCA. Block Area Closures (BACs) could be used to restrict groundfish bottom trawling within any portion of the EEZ off Oregon and California, in areas bounded by specific latitudes and depths, to meet various fishery management goals. These goals would include reducing bycatch of protected species and preventing overfishing. No BACs would be implemented with this proposed rule. BACs cannot be used to close an area to any type of fishing other than groundfish bottom trawling. This rule would allow NMFS to close or reopen BACs pre-season or in-season, consistent with Council recommendations. The approach would be consistent with existing “routine inseason” frameworks already in the FMP and regulations. NMFS would implement changes to BACs through inseason action via a single Federal Register notice, if good cause exists under the Administrative Procedure Act to waive notice and comment. The following examples are hypothetical and illustrate possible uses of BACs, and are not limiting. BACs may be used in scenarios not discussed in these examples. Example 1: Best estimates indicate catches of an IFQ species have exceeded the annual trawl allocation for that species. The Council could consider using BACs to close areas (bounded by depth and latitude, off Oregon and California) where that species has been caught with bottom trawl gear in recent years. Example 2: Best estimates indicate that incidental salmon catch with bottom trawl gear is projected to exceed the thresholds in the applicable incidental take statement. The Council could consider using BACs to close areas where salmon have been caught with bottom trawl in recent years.

When deciding whether to use BACs, the Council will consider environmental impacts, including economic impacts, and public comment via the Council process. Depending on the circumstances, the Council may close areas for a short period of time, such as the remainder of the fishing year, or leave it closed for a longer period of time, such as until reopened by a subsequent action. The Council may recommend that NMFS close one or more BACs and the size of the BACs can vary. A Federal Register notice will announce boundaries (described with coordinates in codified regulations) of one or more BACs, within which groundfish bottom trawling would be prohibited for a period of time. The period of time that the closure would be in effect, as well as the Council's purpose and rationale, will be also described in the Federal Register notice. NMFS would announce the boundaries and duration of the BACs through public notices and on the West Coast Region website (see ADDRESSES).

The Council decided to take no action regarding bottom trawl closures off the Washington coast. The Council's rationale for this decision is similar to those discussed above in section “Revisions to EFH Conservation Areas” for not establishing new habitat management within the tribal U&A fishing areas. Outside of the tribal U&A fishing areas, the Council was concerned with potential impacts to yelloweye rockfish of reopening the trawl RCA. Yelloweye rockfish are managed under a rebuilding plan, and are more concentrated off the Washington coast compared to Oregon and California waters. The Council was also concerned about the indirect effects of reopening these areas to non-groundfish fisheries (e.g., Dungeness crab pot fishing). Crabbers set their pot gear inside the bottom trawl closure, and if it is reopened and fished with bottom trawl gear, the gears may interact, causing physical harm to gears and possibly economic harm to either user group. The Council also discussed the value of the trawl RCA off Washington in providing protection for protected species and other species that are not overfished. Given these factors, the Council made no changes to the current bottom trawl closure off the coast of Washington. The existing trawl RCA will remain in effect off Washington, which means that fishing with bottom trawl gear and transiting without bottom trawl gear stowed is prohibited within the boundaries of the trawl RCA. The Council will still have the same ability as they do now to consider changes to the boundaries of the trawl RCA as a routine inseason action, consistent with the existing FMP and regulatory framework.

Discretionary Management Measures To Protect Deep-Water Habitats, Including Deep-Sea Corals

During the last EFH amendment (Amendment 19, 2006) the Council recommended gear restrictions for the entire EEZ, including areas within the EEZ that were outside of designated EFH. NMFS disapproved the gear restrictions outside of designated EFH because there was insufficient information demonstrating that those areas were important for groundfish ecology and fisheries and warranted protection under EFH provisions. In the partial disapproval, NMFS pointed out that the Magnuson-Stevens Act reauthorizations under development at that time contained expanded authorities that could provide authority to make such closures outside of designated EFH in the future. The Amendment 19 final rule provides additional detail on this partial disapproval (May 11, 2006; 71 FR 27408). Reauthorization of the Magnuson-Stevens Act in 2007 added discretionary authority for Councils to restrict fishing activities, protect deep-sea corals and measures to meet other ecological goals and objectives.

The Council's final preferred alternative and a brief description of the Council's rationale for its preferences are included below. For a thorough discussion of this alternative and the potential impacts, please see Chapters 2 and 4 of the DEIS. Maps can be found in Chapter 2 of the DEIS.

The Council recommended using Magnuson-Stevens Act discretionary authority to close deep water off California to certain gear types, creating a Discretionary Conservation Area, or DCA. Deep-sea habitats are sensitive to disturbance and slow to recover. Therefore, the closure would apply not just to vessels fishing with bottom trawl gear, but to any vessel fishing any gear designed to make contact with the bottom. The definition of bottom contact gear is not being revised in this rule and includes, but is not limited to, bottom trawl, dredge, and fixed gears like longline, trap or pot, set net, and stationary hook-and-line gears. This closure covers over 123,000 square miles (318,569 square km), and includes the entire EEZ south of Mendocino Ridge seaward of approximately 1,900 fathoms (3,500 m). The Council discussed how it values the role of deep-sea habitats in trapping greenhouse gases, slowing the rate of climate change, and providing nutrients (through upwelling) that fuel fisheries. Currently, there is no known bottom contact fishing activities occurring there. This proposed rule would prevent prospective fishing activities that could damage deep-sea ocean floor and sensitive deep-sea coral habitats. Similar to other conservation areas, the Council could allow future prospective fishing activities with bottom contacting gear in this area via a groundfish exempted fishing permit.

Regulatory Changes

This rule proposes two categories of regulatory changes. The first includes measures to implement the Council's recommendation. The second includes minor technical corrections of related regulations. The proposed regulations also update cross-references and definitions as needed.

To implement the Council's recommendation, all new closed areas are defined and described in subpart C with latitude and longitude coordinates and other regulatory boundaries. NMFS is particularly interested in receiving comments on ease of compliance with certain boundaries that do not lend themselves to long, straight lines, such as EFH conservation areas that have portions of their boundaries defined by the state water line, such as the Arago Reef and Rogue River Reef EFH conservation areas. Although fishery participants are familiar with the state water boundary line, NMFS remains concerned that complex boundary lines not defined with latitude and longitude lines may be difficult for fishery participants to navigate, and therefore more likely to lead to prohibited area violations.

NMFS is also particularly interested in receiving comments on the Grays Canyon EFH conservation area, an existing EFH conservation area revised by this action, and how its boundaries relate to the Quinault Indian Nation's usual and accustomed fishing area (Quinault U&A). The Council's April 2018 motion that adopted the northern expansion of this EFH conservation area referred to an early proposal submitted in the Council process, and stated that the expansion should also include the area seaward of the adjudicated western boundary for the Quinault U&A. At the time the Council adopted the motion, the United States District Court for the Western District of Washington had only recently issued an order setting forth the revised western boundary of the Quinault U&A in United States v. Washington, No. C70-9213RSM (W.D. Wash. March 5, 2018) (Order Regarding Boundaries of Quinault and Quileute U&As). The Council motion referenced an early proposed boundary for the area and depicted the prior western boundary for the Quinault U&A, rather than the 2018 adjudicated western boundary. The motion also articulated specific latitude and longitude coordinates for the EFH conservation area. At the September 2018 Council meeting, NMFS stated its intention to propose a shoreward boundary of the EFH conservation area that would be consistent with the 2018 adjudicated western boundary. Upon further examination of coordinates described in the Council motion and the location of the 2018 adjudicated western boundary of the Quinault U&A, the coordinates of the Grays Canyon EFH conservation area northern expansion are approximately 2 miles (3.6 km) farther offshore than the western boundary of the Quinault U&A, which mirrors the coastline 30 nautical miles off the coast of central Washington. NMFS did not have explicit direction from the Council on how to connect the coordinates of the EFH conservation area in the Council motion to the 2018 adjudicated western boundary of the Quinault U&A, and would have had to make assumptions about how to make the connection. In addition, the Council motion describes and depicts a straight line shoreward boundary for the EFH conservation area expansion defined with coordinates. Replacing that straight line boundary with the 2018 adjudicated western boundary for the Quinault U&A, which is not defined with coordinates, may create challenges for enforcement and compliance. After consulting with the Council, NMFS decided to propose regulations that use the latitude and longitude coordinates from the motion to define the Grays Canyon EFH conservation area northern expansion, rather than creating new coordinates to expand the EFH conservation area an additional approximately 2 miles (3.2 km) east to meet the 2018 adjudicated western boundary of the Quinault U&A.

The potential boundaries of future BACs already exist in subpart C. The existing procedures through which inseason action would implement these closures is also described in subpart C. The restrictions within closed areas that apply to specific gear types are described in subparts D through F.

The locations and descriptions of regulations that implement the Council's recommendations regarding Amendment 28 are described in greater detail in Table 1 below. To insure accuracy of EFH conservation area regulations at §§ 660.77 through 79, NMFS is publishing each section in its entirety, rather than only publishing new and revised EFH conservation areas. For transparency, Table 2 categorizes every EFH conservation area as either new, revised, or re-published.

Table 1—Location and Description of Substantive Regulatory Changes Implementing Amendment 28
Section, subpart | Regulatory change | Description
§ 660.11, subpart C | Define the DCA and BACs | Add definition of the DCA and mention BACs as a type of groundfish conservation area.
§ 660.12, subpart C | Add prohibitions for DCAs | Prohibit use of bottom contacting gear in the DCA.
§ 660.60, subpart C | BACs are a routine management measure | Designate BACs as a routine management measure that can be changed inseason.
§ 660.71 through § 660.75, subpart C | Revise introductory text | Boundary lines that approximate depth contours are used for more than just RCAs, including gear restrictions and BACs.
§ 660.76, subpart C | Revise the boundary line approximating the 700 fm depth contour | Revise the section title and revise coordinate at Spanish Canyon, South of Mars Cable, and Cabrillo Canyon.
§ 660.77 through § 660.79, subpart C | Add new and revise existing EFH conservation areas off Washington, Oregon and California | EFH conservation area not being revised are being republished. See Table 2 for additional details.
§ 660.111, subpart D | Define BACs | Add definition of BACs.
§ 660.112, subpart D | Prohibitions for new EFH conservation areas | Update the lists of EFH conservation areas closed to bottom trawl and closed to bottom trawl except for demersal seine (off California).
§ 660.130, subpart D | Off Oregon and California, remove the trawl RCA and add BACs | Revise regulations to no longer use the trawl RCA as a reference point for depth-based gear restrictions; remove the trawl RCA off Oregon and California; add BACs as a potential management measure.
§ 660.130, subpart D | Retain status quo depth restrictions for midwater trawl gear south of 40°10′ N lat | Midwater trawl depth restrictions are moved to paragraph (c)(4). This replaces the restriction at 660.130 (e) that said “midwater trawl is prohibited within and shoreward of the trawl RCA” south of 40°10′ N lat.
Tables 1 (North) and 1 (South) to subpart D | Remove trawl RCA off Oregon and California | Trawl RCA remains only north of 46°16′ N lat.; trawl RCA is removed from Table 1 (South) title.
§ 660.212 and § 660.312, subpart E | Add reference to DCA prohibitions | Bottom contact gear restrictions within the new DCA apply to fixed gear, including longline and trap/pot gears.

Table 2—EFH Conservation Area Changes Off Washington, Oregon, and California, Including Newly Added Areas, Existing Areas With Revised Boundaries, and Existing Areas Re-Published Without Substantive Changes
Section & state | New | Revised | Re-published
§ 660.76—Coastwide | None | Seaward of the 700-fm (1,280-m) contour | None.
§ 660.77—Washington | Quinault Canyon, Willapa Canyonhead, Willapa Deep | Grays Canyon * | Olympic 2, Biogenic 1, Biogenic 2, Biogenic 3.
§ 660.78—Oregon | Astoria Deep, Garibaldi Reef North, Garibaldi Reef South, Hydrate Ridge, Arago Reef,* Rogue River Reef * | Nehalem Bank/Shale Pile, Daisy Bank/Nelson Island, Newport Rockpile/Stonewall Bank, Heceta Bank, Bandon High Spot | Thompson Seamount, Astoria Canyon, Siletz Deepwater, Deepwater off Coos Bay, President Jackson Seamount, Rogue Canyon.
§ 660.79—California | Brush Patch, Trinidad Canyon, Mad River Rough Patch, Samoa Deepwater, Navarro Canyon, The Football, Gobbler's Knob, Point Reyes Reef, Rittenburg Bank, Farallon Escarpment, Pescadero Reef, Pigeon Point Reef, Ascension Canyonhead, South of Davenport, West of Sobranes Point, La Cruz Canyon, West of Piedras Blancas, Southern California Bight | Eel River Canyon, Blunts Reef, Mendocino Ridge, Delgada Canyon, Point Arena South Biogenic Area, Cordell Bank/Biogenic Area, Farallon Islands/Fanny Shoal/Cochrane Bank, Monterey Bay/Canyon, Point Sur Deep, Big Sur Coast/Port San Luis, Potato Bank | Tolo Bank, Point Arena North, Cordell Bank (50-fm (91-m) isobath), Half Moon Bay, Davidson Seamount, East San Lucia Bank, Point Conception, Harris Point, Harris Point Exception, Richardson Rock, Scorpion, Painted Cave, Anacapa Island, Carrington Point, Judith Rock, Skunk Point, Footprint, Gull Island, South Point, Hidden Reef/Kidney Bank, Catalina Island, Santa Barbara, Cherry Bank, Cowcod EFHCA East.
* NMFS is specifically seeking public comments on these EFH conservation areas, as described above.

This rule also proposes minor technical corrections for regulations relating to commercial gear restrictions and closed areas throughout the groundfish regulations at 50 CFR part 660, subparts C through F. The only substantive changes to regulations under this category are to resolve internal inconsistencies within regulations and align them with past Council actions. All other changes are not substantive and include moving, removing, and adding cross-references to regulations to reduce redundancies, and clarifying prohibitions and management measures to reduce complexity and simplify language.

If the proposed regulations in this proposed rule are revised or corrected by other, separate rulemakings before these proposed regulations publish in the final rule, NMFS will update the final regulations for consistency and describe the changes from the proposed rule in the final rule.

Classification

Pursuant to section 304(b)(1)(A) of the Magnuson-Stevens Act, the NMFS Assistant Administrator has made a preliminary determination that this proposed rule is consistent with the FMP, Amendment 28 to the FMP, the Magnuson-Stevens Act, and other applicable law. In making the final determination, NMFS will consider the data, views, and comments received during the public comment period.

This proposed rule has been preliminarily determined to be not significant for purposes of Executive Order (E.O.) 12866.

NMFS prepared a DEIS for this action, which addresses the requirements of the National Environmental Policy Act. The full suite of alternatives analyzed by the Council can be found on the NMFS website at www.westcoast.fisheries.noaa.gov. The DEIS examined the environmental impacts of EFH conservation area changes, re-opening of the trawl RCA, and deep-water fishing restrictions separately and cumulatively. Considering each of the three types of changes separately was warranted based on differing goals and objectives. Considering these changes cumulatively was necessary because of spatial overlap of different alternatives. A copy of the DEIS is available from NMFS (see ADDRESSES).

The Chief Counsel for Regulation of the Department of Commerce certified to the Chief Counsel for Advocacy of the Small Business Administration (SBA) that this proposed rule, if adopted, would not have a significant economic impact on a substantial number of small entities. The factual basis for this certification is as follows.

This proposed rule would directly affect businesses that operate in the commercial fishing industry (NAICS code 11411) operating with bottom trawl fishing gear in Federal waters of the West Coast. This rule would primarily affect businesses harvesting and selling groundfish, but may also affect small businesses harvesting and selling pink shrimp, ridgeback prawn, and sea cucumber caught with bottom trawl gear. For Regulatory Flexibility Act purposes only, NMFS has established a small business size standard for businesses, including their affiliates, whose primary industry is commercial fishing. A business primarily engaged in commercial fishing is classified as a small business if it is independently owned and operated, is not dominant in its field of operation (including its affiliates), and has combined annual receipts not in excess of $11 million for all its affiliated operations worldwide.

Limited entry groundfish vessels (trawl and non-trawl) are required to self-report size across all affiliated entities. All but one of the entities primarily involved in seafood harvest self-identified as small, and own 139 permits. In 2018, 58 vessels harvested groundfish with bottom trawl gear off of the West Coast. In 2018, 58 vessels harvested groundfish in the catch share program and would potentially benefit from some or all of the fishing area flexibility offered in the proposed rule. Vessels in California and Oregon are likely to experience the greatest benefits from reopening of the trawl RCA; 19 bottom trawl vessels landed in California in 2018, and 38 in Oregon, although many vessels fish in multiple states. The five bottom trawl vessels landing in Washington would still have access to expanded fishing opportunity in other states and thus still experience expected benefits from this rule.

Less information is available to NMFS regarding state-managed fisheries; therefore, business size is estimated based on available information. From 2011-2017, an annual average of 139 vessels landed non-groundfish species harvested with bottom trawl gear in state-managed fisheries. Average annual revenue from all species landed by the 139 vessels vary by state. The coastwide average revenue per vessel is less than half a million dollars. The estimates of average annual revenue indicate that these 139 businesses are small businesses, assuming no affiliation and with ownership interest unknown.

The proposed rule would close and reopen EFH conservation areas, which are closed areas to both goundfish and non-groundfish bottom trawl gear. The proposed rule would establish EFH conservation areas over 17,000 square miles (44,000 square km) of the EEZ. However, because some of those areas are already closed to bottom trawl gear by other fishery management measures and only a very small portion of these proposed closed areas are currently fished with bottom trawl gear for any species, we expect very little effort will be displaced by these closures. The groundfish areas to be closed contributed less than half a percent to revenues, coastwide. For non-groundfish, there is very little overlap of fishing areas and closures proposed by this rule. This rule is anticipated to have negligible effects to small businesses because of low overlap of closures with common bottom trawl fishing areas. This proposed rule would re-open to bottom trawl gear (both groundfish and non-groundfish) EFH conservation areas covering approximately 200 square miles (518 square km) of the EEZ. Changing areas fished or targeting strategies is optional, and up to the discretion of the operator. Some vessels may choose not to access reopened areas and thus would not be affected by reopened areas proposed by this rule. For vessels who do anticipate expanding operations into newly reopened areas, effects would be expected to be positive.

The proposed rule would reopen almost 3,000 square miles (7,800 square km) of the EEZ (e.g., the trawl RCA) to groundfish bottom trawling. Areas to be opened represent a substantial increase in potential fishing grounds to active operations off the coasts of California and Oregon, and contributed up to 11 percent of coastwide revenue to the fishery prior to their closure in 2002. For the same reasons stated above, expanding operations into newly reopened areas is optional and the effects would be expected to be positive for vessels that choose to do so. The trawl RCA that is the subject of this action does not apply to non-groundfish trawl vessels and its reopening to groundfish trawl vessels is therefore not anticipated to have any direct effect on non-groundfish trawl fisheries.

The proposed rule would close over 123,000 square miles (318,569 square km) seaward of approximately 1,900 fathoms (3,500 m) to fishing with bottom contact gears. Currently, there is no known bottom contact fishing activities occurring there, and there would be no adverse economic impact on any small business.

In summary, this rule would not have an adverse economic impact on any small business. Any changes to coastwide revenue or pounds by the net of these closures and openings is not quantifiable; however, the impacts to small businesses operating in non-groundfish bottom trawl fisheries are anticipated to be negligible. The closures are not displacing much fishing activity and openings are anticipated to offer increased flexibility for active operations in terms of access to fishing areas. Therefore, NMFS expects this proposed rule would not have a significant economic impact on a substantial number of small entities, and an initial regulatory flexibility analysis is not required and none has been prepared.

Pursuant to Executive Order 13175, this proposed rule was developed after meaningful consultation and collaboration with the tribal representative on the Council who has agreed with the proposed action. None of the provisions in this proposed rule apply to tribal vessels operating in tribal usual and accustomed fishing areas.

This proposed rule does not contain policies with Federalism or “takings” implications as those terms are defined in E.O. 13132 and E.O. 12630, respectively.

List of Subjects in 50 CFR Part 660

Fisheries, Fishing, Reporting and recordkeeping requirements.

Dated: July 29, 2019.
Samuel D. Rauch III,
Deputy Assistant Administrator for Regulatory Programs, National Marine Fisheries Service.

For the reasons set out in the preamble, 50 CFR part 660 is proposed to be amended as follows:

PART 660—FISHERIES OFF WEST COAST STATES

1. The authority citation for part 660 continues to read as follows:

Authority: 16 U.S.C. 1801 et seq., 16 U.S.C. 773 et seq., and 16 U.S.C. 7001 et seq.

2. In § 660.11, revise the definition of “Conservation area(s),” and add the definition of “Exclusive Economic Zone or EEZ” in alphabetical order to read as follows.

§ 660.11 General definitions.

* * * * *

Conservation area(s) means an enclosed geographic area defined by coordinates expressed in degrees latitude and longitude where NMFS may prohibit fishing with particular gear types. Conservation areas include Groundfish Conservation Areas (GCA), Essential Fish Habitat Conservation Areas (EFHCA) and Discretionary Conservation Areas (DCA).

(1) Groundfish Conservation Area or GCA means a conservation area created or modified and enforced to control catch of groundfish or protected species. Regulations at § 660.60(c)(3) describe the various purposes for which NMFS may implement certain types of GCAs through routine management measures. Regulations at § 660.70 further describe and define coordinates for certain GCAs, including: Yelloweye Rockfish Conservation Areas; Cowcod Conservation Areas; waters encircling the Farallon Islands; and waters encircling the Cordell Banks. GCAs also include depth-based closures bounded by lines approximating depth contours and lines of latitude, including Bycatch Reduction Areas or BRAs, Block Area Closures or BACs, and Rockfish Conservation Areas or RCAs, which may be closed to fishing with particular gear types. BRA, BAC, and RCA boundaries may change seasonally according to conservation needs. Regulations at §§ 660.71 through 660.74 define depth-based closure boundary lines with latitude/longitude coordinates. Regulations at § 660.11 describe commonly used geographic coordinates that define lines of latitude. Fishing prohibitions associated with GCAs are in addition to those associated with other conservation areas.

(i) Block Area Closures or BACs are defined at § 660.111.

(ii) Bycatch Reduction Areas or BRAs are conservation areas that apply to vessels using midwater groundfish trawl gear during the Pacific whiting primary season, as described at §§ 660.60(d) and 660.131(c).

(iii) Cordell Banks is defined at § 660.70.

(iv) Cowcod Conservation Areas are defined at § 660.70.

(v) Farallon Islands is defined at § 660.70.

(vi) Rockfish Conservation Areas or RCAs. RCA restrictions are detailed in subparts D through G of this part. RCAs may apply to a single gear type or to a group of gear types such as “trawl RCAs” or “non-trawl RCAs.” Specific latitude and longitude coordinates for RCA boundaries that approximate the depth contours selected for trawl, non-trawl, and recreational RCAs are provided in §§ 660.71 through 660.74. Also provided in §§ 660.71 through 660.74, are references to islands and rocks that serve as reference points for the RCAs.

(A) Trawl (Limited Entry and Open Access Non-groundfish Trawl Gears) RCAs. The trawl RCAs are intended to protect a complex of species, such as overfished shelf rockfish species, and have boundaries defined by specific latitude and longitude coordinates approximating depth contours. Boundaries for the limited entry trawl RCA throughout the year are provided in Table 1 (North) subpart D of this part. Boundaries for the open access non-groundfish trawl RCA throughout the year are provided in Table 3 (South) subpart F of this part. Boundaries of the trawl RCAs may be modified by NMFS inseason pursuant to § 660.60(c).

(B) Non-Trawl (Limited Entry Fixed Gear and Open Access Non-trawl Gears) RCAs. Non-trawl RCAs are intended to protect a complex of species, such as overfished shelf rockfish species, and have boundaries defined by specific latitude and longitude coordinates approximating depth contours. Boundaries for the non-trawl RCA throughout the year are provided in Table 2 (North) and Table 2 (South) of subpart E of this part, and Table 3 (North) and Table 3 (South) of subpart F of this part, and may be modified by NMFS inseason pursuant to § 660.60(c).

(C) Recreational RCAs. Recreational RCAs are closed areas intended to protect overfished rockfish species. Recreational RCAs may either have boundaries defined by general depth contours or boundaries defined by specific latitude and longitude coordinates approximating depth contours. Boundaries for the recreational RCAs throughout the year are provided in the text in subpart G of this part under each state (Washington, Oregon and California) and may be modified by NMFS inseason pursuant to § 660.60(c).

(vii) Yelloweye Rockfish Conservation Areas or YRCAs are defined at § 660.70.

(2) Essential Fish Habitat Conservation Area or EFHCA means an area created and enforced to contribute to the protection of groundfish essential fish habitat. Regulations at §§ 660.75 through 660.79 define EFHCA boundaries. Fishing prohibitions associated with EFHCAs, which are found at §§ 660.12, 660.112, 660.212, and 660.312, are in addition to those associated with other conservation areas.

(3) Discretionary Conservation Area or DCA is the area within the EEZ deeper than 3,500 m (1,914 fm) that is not designated as EFH, defined at § 660.75 with latitude and longitude coordinates. The DCA is closed to bottom contact gear for the reasons described under MSA Section 303(b), and contributes to the protection of deep-water habitats including deep-sea corals. Fishing prohibitions associated with DCAs, at § 660.12, are in addition to those associated with other conservation areas.

* * * * *

Exclusive Economic Zone or EEZ is defined at § 600.10. See also Fishery management area of this section.

* * * * *

3. In § 660.12, add paragraphs (a)(16) through (18) to read as follows:

§ 660.12 General groundfish prohibitions.

* * * * *

(a) * * *

(16) Fish with bottom contact gear (defined at § 660.11) within the EEZ in the following EFHCAs (defined at §§ 660.78 and 660.79): Thompson Seamount, President Jackson Seamount, Cordell Bank (50-fm (91-m) isobath), Harris Point, Richardson Rock, Scorpion, Painted Cave, Anacapa Island, Carrington Point, Judith Rock, Skunk Point, Footprint, Gull Island, South Point, and Santa Barbara.

(17) Fish with bottom contact gear (defined at § 660.11), or any other gear that is deployed deeper than 500-fm (914-m), within the Davidson Seamount EFHCA (defined at § 660.79).

(18) Fish with bottom contact gear, defined at § 660.11, in the DCA, defined at § 660.11.

* * * * *

4. In § 660.60 revise introductory text paragraph (c) and paragraph (c)(3)(i) to read as follows:

§ 660.60 Specifications and management measures.

* * * * *

(c) Routine management measures. Catch restrictions that are likely to be adjusted on a biennial or more frequent basis may be imposed and announced by a single notification in the Federal Register if good cause exists under the Administrative Procedure Act (APA) to waive notice and comment, and if they have been designated as routine through the two-meeting process described in the PCGFMP. Routine management measures that may be revised during the fishing year, via this process, are implemented in paragraph (h) of this section, and in subparts C through G of this part, including Tables 1a through 1c, and 2a through 2c to subpart C of this part, Tables 1 (North) and 1 (South) of subpart D of this part, Tables 2 (North) and 2 (South) of subpart E of this part, and Tables 3 (North) and 3 (South) of subpart F of this part. Most trip, bag, and size limits, and some Groundfish Conservation Area closures in the groundfish fishery have been designated “routine,” which means they may be changed rapidly after a single Council meeting. Council meetings are held in the months of March, April, June, September, and November. Inseason changes to routine management measures are announced in the Federal Register pursuant to the requirements of the APA. Changes to trip limits are effective at the times stated in the Federal Register. Once a trip limit change is effective, it is illegal to take and retain, possess, or land more fish than allowed under the new trip limit. This means that, unless otherwise announced in the Federal Register, offloading must begin before the time a fishery closes or a more restrictive trip limit takes effect. The following catch restrictions have been designated as routine:

* * * * *

(3) * * *

(i) Depth-based management measures. Depth-based management measures, particularly closed areas known as Groundfish Conservation Areas, defined in § 660.11, include RCAs, BRAs, and BACs, and may be implemented in any fishery sector that takes groundfish directly or incidentally. Depth-based management measures are set using specific boundary lines that approximate depth contours with latitude/longitude waypoints found at §§ 660.70 through 660.74. Depth-based management measures and closed areas may be used for the following conservation objectives: To protect and rebuild overfished stocks; to prevent the overfishing of any groundfish species by minimizing the direct or incidental catch of that species; or to minimize the incidental harvest of any protected or prohibited species taken in the groundfish fishery. Depth-based management measures and closed areas may be used for the following economic objectives: To extend the fishing season; for the commercial fisheries, to minimize disruption of traditional fishing and marketing patterns; for the recreational fisheries, to spread the available catch over a large number of anglers; to discourage target fishing while allowing small incidental catches to be landed; and to allow small fisheries to operate outside the normal season.

(A) Rockfish Conservation Areas. RCAs, as defined at § 660.11, may be modified as routine action for vessels using trawl gear (off Washington), non-trawl gear (coastwide), or recreational gear (coastwide) consistent with the purposes described in paragraph (c)(3)(i) of this section.

(B) Bycatch Reduction Areas. BRAs may be implemented through automatic action in the Pacific whiting fishery consistent with paragraph (d)(1) of this section. BRAs may be implemented as routine management measures for vessels using midwater groundfish trawl gear consistent with the purposes described in paragraph (c)(3)(i) of this section.

(C) Block Area Closures. BACs, as defined at § 660.111, may be closed or reopened, off Oregon and California, for vessels using limited entry bottom trawl gear consistent with the purposes described in paragraph (c)(3)(i) of this section.

* * * * *

5. Amend § 660.70 by:

a. Removing the introductory text, paragraphs (n), (o) and (r);

b. Redesignating paragraphs (a) through (m) as (b) through (n);

c. Adding new paragraphs (a) and (o).

The additions read as follows:

§ 660.70 Groundfish conservation areas.

(a) General. Groundfish conservation area (GCA) is defined in § 660.11. This section defines GCAs whose shapes are not exclusively defined by boundary lines approximating depth contours found in §§ 660.71 through 660.74 or commonly used geographic coordinates at § 660.11. Fishing activity that is prohibited or permitted within a particular GCA is detailed at subparts C through G of part 660.

* * * * *

(o) Cowcod Conservation Areas. The Cowcod Conservation Areas (CCAs) are two areas off the southern California coast intended to protect cowcod.

(1) Western CCA. The Western CCA is an area south of Point Conception defined by the straight lines connecting the following specific latitude and longitude coordinates in the order listed:

(A) 33°50.00′ N lat., 119°30.00′ W long.;

(B) 33°50.00′ N lat., 118°50.00′ W long.;

(C) 32°20.00′ N lat., 118°50.00′ W long.;

(D) 32°20.00′ N lat., 119°37.00′ W long.;

(E) 33°00.00′ N lat., 119°37.00′ W long.;

(F) 33°00.00′ N lat., 119°53.00′ W long.;

(G) 33°33.00′ N lat., 119°53.00′ W long.;

(H) 33°33.00′ N lat., 119°30.00′ W long.;

and connecting back to 33°50.00′ N lat., 119°30.00′ W long.

(2) Transit corridor. The Western CCA transit corridor is bounded on the north by the latitude line at 33°00.50′ N lat., and bounded on the south by the latitude line at 32°59.50′ N lat.

(3) Eastern CCA. The Eastern CCA is an area west of San Diego defined by the straight lines connecting the following specific latitude and longitude coordinates in the order listed:

(A) 32°42.00′ N lat., 118°02.00′ W long.;

(B) 32°42.00′ N lat., 117°50.00′ W long.;

(C) 32°36.70′ N lat., 117°50.00′ W long.;

(D) 32°30.00′ N lat., 117°53.50′ W long.;

(E) 32°30.00′ N lat., 118°02.00′ W long.;

and connecting back to 32°42.00′ N lat., 118°02.00′ W long.

* * * * *

6. In § 660.71 revise the introductory text to read as follows:

§ 660.71 Latitude/longitude coordinates defining the 10-fm (18-m) through 40-fm (73-m) depth contours.

Boundaries for some GCAs are defined by straight lines connecting a series of latitude/longitude coordinates. This section provides coordinates for the 10-fm (18-m) through 40-fm (73-m) depth contours.

* * * * *

7. In § 660.72 revise the introductory text to read as follows:

§ 660.72 Latitude/longitude coordinates defining the 50 fm (91 m) through 75 fm (137 m) depth contours.

Boundaries for some GCAs are defined by straight lines connecting a series of latitude/longitude coordinates. This section provides coordinates for the 50 fm (91 m) through 75 fm (137 m) depth contours.

* * * * *

8. In § 660.73 revise the introductory text to read as follows:

§ 660.73 Latitude/longitude coordinates defining the 100 fm (183 m) through 150 fm (274 m) depth contours.

Boundaries for some GCAs are defined by straight lines connecting a series of latitude/longitude coordinates. This section provides coordinates for the 100 fm (183 m) through 150 fm (274 m) depth contours.

* * * * *

9. In § 660.74 revise the introductory text and paragraphs (l)(209) and (210) to read as follows:

§ 660.74 Latitude/longitude coordinates defining the 180 fm (329 m) through 250 fm (457 m) depth contours.

Boundaries for some GCAs are defined by straight lines connecting a series of latitude/longitude coordinates. This section provides coordinates for the 180 fm (329 m) through 250 fm (457 m) depth contours.

* * * * *

(l) * * *

(209) 34°27.00′ N lat., 120°42.61′ W long.;

(210) 34°19.08′ N lat., 120°31.21′ W long.;

* * * * *

10. Amend § 660.76 by:

a. Revising the section heading and paragraphs (a) and (b);

b. Removing introductory text.

The revisions read as follows:

§ 660.76 Coastwide EFHCAs.

(a) General. EFHCAs are defined at § 660.11. The boundaries of areas designated as EFHCAs are defined by straight lines connecting a series of latitude and longitude coordinates and other regulatory boundaries. This paragraph provides coordinates outlining the boundaries of the coastwide EFHCA. Coordinates outlining the boundaries of EFHCAs off the coasts of Washington, Oregon, and California are provided in §§ 660.77, 660.78, and 660.79, respectively. Fishing activity that is prohibited or permitted within a particular EFHCA is detailed at subparts C through G of this part.

(b) Seaward of the 700-fm (1280-m) contour. This area includes all waters designated as EFH within the West Coast EEZ west of a line approximating the 700-fm (1280-m) depth contour which is defined by straight lines connecting all of the following points in the order stated:

(1) 48°06.97′ N lat., 126°02.96′ W long.;

(2) 48°00.44′ N lat., 125°54.96′ W long.;

(3) 47°55.96′ N lat., 125°46.51′ W long.;

(4) 47°47.21′ N lat., 125°43.73′ W long.;

(5) 47°42.89′ N lat., 125°49.58′ W long.;

(6) 47°38.18′ N lat., 125°37.26′ W long.;

(7) 47°32.36′ N lat., 125°32.87′ W long.;

(8) 47°29.77′ N lat., 125°26.27′ W long.;

(9) 47°28.54′ N lat., 125°18.82′ W long.;

(10) 47°19.25′ N lat., 125°17.18′ W long.;

(11) 47°08.82′ N lat., 125°10.01′ W long.;

(12) 47°04.69′ N lat., 125°03.77′ W long.;

(13) 46°48.38′ N lat., 125°18.43′ W long.;

(14) 46°41.92′ N lat., 125°17.29′ W long.;

(15) 46°27.49′ N lat., 124°54.36′ W long.;

(16) 46°14.13′ N lat., 125°02.72′ W long.;

(17) 46°09.53′ N lat., 125°04.75′ W long.;

(18) 45°46.64′ N lat., 124°54.44′ W long.;

(19) 45°40.86′ N lat., 124°55.62′ W long.;

(20) 45°36.50′ N lat., 124°51.91′ W long.;

(21) 44°55.69′ N lat., 125°08.35′ W long.;

(22) 44°49.93′ N lat., 125°01.51′ W long.;

(23) 44°46.93′ N lat., 125°02.83′ W long.;

(24) 44°41.96′ N lat., 125°10.64′ W long.;

(25) 44°28.31′ N lat., 125°11.42′ W long.;

(26) 43°58.37′ N lat., 125°02.93′ W long.;

(27) 43°52.74′ N lat., 125°05.58′ W long.;

(28) 43°44.18′ N lat., 124°57.17′ W long.;

(29) 43°37.58′ N lat., 125°07.70′ W long.;

(30) 43°15.95′ N lat., 125°07.84′ W long.;

(31) 42°47.50′ N lat., 124°59.96′ W long.;

(32) 42°39.02′ N lat., 125°01.07′ W long.;

(33) 42°34.80′ N lat., 125°02.89′ W long.;

(34) 42°34.11′ N lat., 124°55.62′ W long.;

(35) 42°23.81′ N lat., 124°52.85′ W long.;

(36) 42°16.80′ N lat., 125°00.20′ W long.;

(37) 42°06.60′ N lat., 124°59.14′ W long.;

(38) 41°59.28′ N lat., 125°06.23′ W long.;

(39) 41°31.10′ N lat., 125°01.30′ W long.;

(40) 41°14.52′ N lat., 124°52.67′ W long.;

(41) 40°40.65′ N lat., 124°45.69′ W long.;

(42) 40°35.05′ N lat., 124°45.65′ W long.;

(43) 40°23.81′ N lat., 124°41.16′ W long.;

(44) 40°20.54′ N lat., 124°36.36′ W long.;

(45) 40°20.84′ N lat., 124°57.23′ W long.;

(46) 40°18.54′ N lat., 125°09.47′ W long.;

(47) 40°14.54′ N lat., 125°09.83′ W long.;

(48) 40°11.79′ N lat., 125°07.39′ W long.;

(49) 40°06.72′ N lat., 125°04.28′ W long.;

(50) 39°52.62′ N lat., 124°40.65′ W long.;

(51) 39°52.29′ N lat., 124°34.72′ W long.;

(52) 39°55.19′ N lat., 124°29.32′ W long.;

(53) 39°54.43′ N lat., 124°24.06′ W long.;

(54) 39°44.25′ N lat., 124°12.60′ W long.;

(55) 39°35.82′ N lat., 124°12.02′ W long.;

(56) 39°24.54′ N lat., 124°16.01′ W long.;

(57) 39°01.97′ N lat., 124°11.20′ W long.;

(58) 38°33.48′ N lat., 123°48.21′ W long.;

(59) 38°14.49′ N lat., 123°38.89′ W long.;

(60) 37°56.97′ N lat., 123°31.65′ W long.;

(61) 37°49.09′ N lat., 123°27.98′ W long.;

(62) 37°40.29′ N lat., 123°12.83′ W long.;

(63) 37°22.54′ N lat., 123°14.65′ W long.;

(64) 37°05.98′ N lat., 123°05.31′ W long.;

(65) 36°59.02′ N lat., 122°50.92′ W long.;

(66) 36°51.52′ N lat., 122°22.03′ W long.;

(67) 36°49.09′ N lat., 122°21.84′ W long.;

(68) 36°50.47′ N lat., 122°19.03′ W long.;

(69) 36°50.14′ N lat., 122°17.50′ W long.;

(70) 36°44.54′ N lat., 122°19.42′ W long.;

(71) 36°40.76′ N lat., 122°17.28′ W long.;

(72) 36°39.88′ N lat., 122°09.69′ W long.;

(73) 36°40.02′ N lat., 122°09.09′ W long.;

(74) 36°40.99′ N lat., 122°08.53′ W long.;

(75) 36°41.17′ N lat., 122°08.97′ W long.;

(76) 36°44.52′ N lat., 122°07.13′ W long.;

(77) 36°42.26′ N lat., 122°03.54′ W long.;

(78) 36°30.02′ N lat., 122°09.85′ W long.;

(79) 36°22.33′ N lat., 122°22.99′ W long.;

(80) 36°14.36′ N lat., 122°21.19′ W long.;

(81) 36°09.50′ N lat., 122°14.25′ W long.;

(82) 35°51.50′ N lat., 121°55.92′ W long.;

(83) 35°49.53′ N lat., 122°13.00′ W long.;

(84) 34°58.30′ N lat., 121°36.76′ W long.;

(85) 34°53.13′ N lat., 121°37.49′ W long.;

(86) 34°46.54′ N lat., 121°46.25′ W long.;

(87) 34°37.81′ N lat., 121°35.72′ W long.;

(88) 34°37.72′ N lat., 121°27.35′ W long.;

(89) 34°26.77′ N lat., 121°07.58′ W long.;

(90) 34°18.54′ N lat., 121°05.01′ W long.;

(91) 34°02.68′ N lat., 120°54.30′ W long.;

(92) 33°48.11′ N lat., 120°25.46′ W long.;

(93) 33°42.54′ N lat., 120°38.24′ W long.;

(94) 33°46.26′ N lat., 120°43.64′ W long.;

(95) 33°40.71′ N lat., 120°51.29′ W long.;

(96) 33°33.14′ N lat., 120°40.25′ W long.;

(97) 32°51.57′ N lat., 120°23.35′ W long.;

(98) 32°38.54′ N lat., 120°09.54′ W long.;

(99) 32°35.76′ N lat., 119°53.43′ W long.;

(100) 32°29.54′ N lat., 119°46.00′ W long.;

(101) 32°25.99′ N lat., 119°41.16′ W long.;

(102) 32°30.46′ N lat., 119°33.15′ W long.;

(103) 32°23.47′ N lat., 119°25.71′ W long.;

(104) 32°19.19′ N lat., 119°13.96′ W long.;

(105) 32°13.18′ N lat., 119°04.44′ W long.;

(106) 32°13.40′ N lat., 118°51.87′ W long.;

(107) 32°19.62′ N lat., 118°47.80′ W long.;

(108) 32°27.26′ N lat., 118°50.29′ W long.;

(109) 32°28.42′ N lat., 118°53.15′ W long.;

(110) 32°31.30′ N lat., 118°55.09′ W long.;

(111) 32°33.04′ N lat., 118°53.57′ W long.;

(112) 32°19.07′ N lat., 118°27.54′ W long.;

(113) 32°18.57′ N lat., 118°18.97′ W long.;

(114) 32°09.01′ N lat., 118°13.96′ W long.;

(115) 32°06.57′ N lat., 118°18.78′ W long.;

(116) 32°01.32′ N lat., 118°18.21′ W long.; and

(117) 31°57.89′ N lat., 118°10.51′ W long.

11. Revise § 660.77 to read as follows:

§ 660.77 EFHCAs off the Coast of Washington.

(a) General. Boundary line coordinates for EFHCAs off Washington are provided in this section. Fishing activity that is prohibited or permitted within the EEZ in a particular area designated as a groundfish EFHCAs is detailed at §§ 660.12, 660.112, 660.130, 660.212, 660.230, 660.312, 660.330, and 660.360.

(b) Olympic 2. The boundary of the Olympic 2 EFHCA is defined by straight lines connecting all of the following points in the order stated:

(1) 48°21.46′ N lat., 124°51.61′ W long.;

(2) 48°17.00′ N lat., 124°57.18′ W long.;

(3) 48°06.13′ N lat., 125°00.68′ W long.;

(4) 48°06.66′ N lat., 125°06.55′ W long.;

(5) 48°08.44′ N lat., 125°14.61′ W long.;

(6) 48°22.57′ N lat., 125°09.82′ W long.;

(7) 48°21.42′ N lat., 125°03.55′ W long.;

(8) 48°22.99′ N lat., 124°59.29′ W long.;

(9) 48°23.89′ N lat., 124°54.37′ W long.;

and connecting back to 48°21.46′ N lat., 124°51.61′ W long.

(c) Biogenic 1. The boundary of the Biogenic 1 EFHCA is defined by straight lines connecting all of the following points in the order stated:

(1) 47°29.97′ N lat., 125°20.14′ W long.;

(2) 47°30.01′ N lat., 125°30.06′ W long.;

(3) 47°40.09′ N lat., 125°50.18′ W long.;

(4) 47°47.27′ N lat., 125°50.06′ W long.;

(5) 47°47.00′ N lat., 125°24.28′ W long.;

(6) 47°39.53′ N lat., 125°10.49′ W long.;

(7) 47°30.31′ N lat., 125°08.81′ W long.;

and connecting back to 47°29.97′ N lat., 125°20.14′ W long.

(d) Biogenic 2. The boundary of the Biogenic 2 EFHCA is defined by straight lines connecting all of the following points in the order stated:

(1) 47°08.77′ N lat., 125°00.91′ W long.;

(2) 47°08.82′ N lat., 125°10.01′ W long.;

(3) 47°20.01′ N lat., 125°10.00′ W long.;

(4) 47°20.00′ N lat., 125°01.25′ W long.;

and connecting back to 47°08.77′ N lat., 125°00.91′ W long.

(e) Quinault Canyon. The boundary of the Quinault Canyon EFHCA is defined by straight lines connecting all of the following points in the order stated:

(1) 47°17.00′ N lat., 125°15.63′ W long.;

(2) 47°17.00′ N lat., 125°10.00′ W long.;

(3) 47°08.82′ N lat., 125°10.01′ W long.;

and connecting back to 47°17.00′ N lat., 125°15.63′ W long.

(f) Grays Canyon. The boundary of the Grays Canyon EFHCA is defined by straight lines connecting all of the following points in the order stated:

(1) 46°56.79′ N lat., 125°00.00′ W long.;

(2) 46°58.30′ N lat., 125°00.21′ W long.;

(3) 46°58.47′ N lat., 124°59.08′ W long.;

(4) 47°01.04′ N lat., 124°59.54′ W long.;

(5) 47°02.54′ N lat., 124°57.40′ W long.,

(6) 46°57.88′ N lat., 124°55.63′ W long.;

(7) 46°58.01′ N lat., 124°55.09′ W long.;

(8) 46°55.07′ N lat., 124°54.14′ W long.;

(9) 46°59.60′ N lat., 124°49.79′ W long.;

(10) 46°58.72′ N lat., 124°48.78′ W long.;

(11) 46°54.45′ N lat., 124°48.36′ W long.;

(12) 46°53.99′ N lat., 124°49.95′ W long.;

(13) 46°54.38′ N lat., 124°52.73′ W long.;

(14) 46°53.30′ N lat., 124°52.35′ W long.;

(15) 46°53.30′ N lat., 124°49.13′ W long.;

(16) 46°50.40′ N lat., 124°49.06′ W long.;

(17) 46°48.12′ N lat., 124°47.94′ W long.;

(18) 46°47.48′ N lat., 124°50.86′ W long.;

(19) 46°49.81′ N lat., 124°52.79′ W long.;

(20) 46°51.55′ N lat., 125°00.00′ W long.;

and connecting back to 46°56.79′ N lat., 125°00.00′ W long.

(g) Biogenic 3. The boundary of the Biogenic 3 EFHCA is defined by straight lines connecting all of the following points in the order stated:

(1) 46°48.16′ N lat., 125°10.75′ W long.;

(2) 46°40.00′ N lat., 125°10.00′ W long.;

(3) 46°40.00′ N lat., 125°20.01′ W long.;

(4) 46°50.00′ N lat., 125°20.00′ W long.;

and connecting back to 46°48.16′ N lat., 125°10.75′ W long.

(h) Willapa Canyonhead. The boundary of the Willapa Canyonhead EFHCA is defined by straight lines connecting all of the following points in the order stated:

(1) 46°33.50′ N lat., 124°28.77′ W long.;

(2) 46°33.50′ N lat., 124°29.50′ W long.;

(3) 46°33.85′ N lat., 124°36.99′ W long.;

(4) 46°36.50′ N lat., 124°38.00′ W long.;

(5) 46°37.50′ N lat., 124°41.00′ W long.;

(6) 46°37.64′ N lat., 124°41.11′ W long.;

(7) 46°39.43′ N lat., 124°38.69′ W long.;

(8) 46°34.50′ N lat., 124°28.50′ W long.;

and connecting back to 46°33.50′ N lat., 124°28.77′ W long.

(i) Willapa Deep. The boundary of the Willapa Deep EFHCA is defined by straight lines connecting all of the following points in the order stated:

(1) 46°22.57′ N lat., 124°46.70′ W long.;

(2) 46°24.38′ N lat., 124°56.31′ W long.;

(3) 46°27.49′ N lat., 124°54.36′ W long.;

(4) 46°36.87′ N lat., 125°09.27′ W long.;

(5) 46°35.59′ N lat., 125°04.58′ W long.;

(6) 46°31.54′ N lat., 124°57.53′ W long.;

(7) 46°28.70′ N lat., 124°51.77′ W long.;

(8) 46°23.78′ N lat., 124°43.30′ W long.;

And connecting back to 46°22.57′ N lat., 124°46.70′ W long.

12. Revise § 660.78 to read as follows:

§ 660.78 EFHCAs off the Coast of Oregon.

(a) General. Boundary line coordinates for EFHCAs off Oregon are provided in this section. Fishing activity that is prohibited or permitted within the EEZ in a particular area designated as a groundfish EFHCA is detailed at §§ 660.12, 660.112, 660.130, 660.212, 660.230, 660.312, 660.330, and 660.360.

(b) Astoria Deep. The boundary of the Astoria Deep EFHCA is defined by straight lines connecting all of the following points in the order stated:

(1) 46°03.00′ N lat., 124°57.36′ W long.;

(2) 46°05.37′ N lat., 125°02.88′ W long.;

(3) 46°09.53′ N lat., 125°04.75′ W long.;

(4) 46°14.13′ N lat., 125°02.72′ W long.;

(5) 46°14.79′ N lat., 125°02.31′ W long.;

(6) 46°08.28′ N lat., 125°00.20′ W long.;

(7) 46°05.74′ N lat., 124°55.32′ W long.;

and connecting back to 46°03.00′ N lat., 124°57.36′ W long.

(c) Thompson Seamount. The boundary of the Thompson Seamount EFHCA is defined by straight lines connecting all of the following points in the order stated:

(1) 46°06.93′ N lat., 128°39.77′ W long.;

(2) 46°06.76′ N lat., 128°39.60′ W long.;

(3) 46°07.80′ N lat., 128°39.43′ W long.;

(4) 46°08.50′ N lat., 128°34.39′ W long.;

(5) 46°06.76′ N lat., 128°29.36′ W long.;

(6) 46°03.64′ N lat., 128°28.67′ W long.;

(7) 45°59.64′ N lat., 128°31.62′ W long.;

(8) 45°56.87′ N lat., 128°33.18′ W long.;

(9) 45°53.92′ N lat., 128°39.25′ W long.;

(10) 45°54.26′ N lat., 128°43.42′ W long.;

(11) 45°56.87′ N lat., 128°45.85′ W long.;

(12) 46°00.86′ N lat., 128°46.02′ W long.;

(13) 46°03.29′ N lat., 128°44.81′ W long.;

(14) 46°06.24′ N lat., 128°42.90′ W long.;

and connecting back to 46°06.93′ N lat., 128°39.77′ W long.

(d) Astoria Canyon. The boundary of the Astoria Canyon EFHCA is defined by straight lines connecting all of the following points in the order stated:

(1) 46°06.48′ N lat., 125°05.46′ W long.;

(2) 46°03.00′ N lat., 124°57.36′ W long.;

(3) 46°02.28′ N lat., 124°57.66′ W long.;

(4) 46°01.92′ N lat., 125°02.46′ W long.;

(5) 45°48.72′ N lat., 124°56.58′ W long.;

(6) 45°47.70′ N lat., 124°52.20′ W long.;

(7) 45°40.86′ N lat., 124°55.62′ W long.;

(8) 45°29.82′ N lat., 124°54.30′ W long.;

(9) 45°25.98′ N lat., 124°56.82′ W long.;

(10) 45°26.04′ N lat., 125°10.50′ W long.;

(11) 45°33.12′ N lat., 125°16.26′ W long.;

(12) 45°40.32′ N lat., 125°17.16′ W long.;

(13) 46°03.00′ N lat., 125°14.94′ W long.;

and connecting back to 46°06.48′ N lat., 125°05.46′ W long.

(e) Nehalem Bank/Shale Pile. The boundary of the Nehalem Bank/Shale Pile EFHCA is defined by straight lines connecting all of the following points in the order stated:

(1) 45°51.53′ N lat., 124°31.15′ W long.;

(2) 45°47.95′ N lat., 124°31.70′ W long.;

(3) 45°52.75′ N lat., 124°39.20′ W long.;

(4) 45°58.02′ N lat., 124°38.99′ W long.;

(5) 45°60.83′ N lat., 124°36.78′ W long.;

(6) 45°59.94′ N lat., 124°34.63′ W long.;

(7) 45°58.90′ N lat., 124°33.47′ W long.;

(8) 45°54.27′ N lat., 124°30.73′ W long.;

(9) 45°53.62′ N lat., 124°30.83′ W long.;

(10) 45°52.90′ N lat., 124°30.67′ W long.;

(11) 45°52.03′ N lat., 124°30.60′ W long.;

(12) 45°51.74′ N lat., 124°30.85′ W long.;

and connecting back to 45°51.53′ N lat., 124°31.15′ W long.

(f) Garibaldi Reef North. The boundary of the Garibaldi Reef North EFHCA is defined by straight lines connecting all of the following points in the order stated:

(1) 45°40.81′ N lat., 124°18.46′ W long.;

(2) 45°39.70′ N lat., 124°19.46′ W long.;

(3) 45°40.84′ N lat., 124°22.17′ W long.;

(4) 45°44.94′ N lat., 124°23.07′ W long.;

(5) 45°45.17′ N lat., 124°22.19′ W long.;

(6) 45°43.49′ N lat., 124°18.94′ W long.;

and connecting back to 45°40.81′ N lat., 124°18.46′ W long.

(g) Garibaldi Reef South. The boundary of the Garibaldi Reef South EFHCA is defined by straight lines connecting all of the following points in the order stated:

(1) 45°34.53′ N lat., 124°15.47′ W long.;

(2) 45°33.46′ N lat., 124°13.59′ W long.;

(3) 45°32.53′ N lat., 124°14.39′ W long.;

(4) 45°33.58′ N lat., 124°16.54′ W long.;

and connecting back to 45°34.53′ N lat., 124°15.47′ W long.

(h) Siletz Deepwater. The boundary of the Siletz Deepwater EFHCA is defined by straight lines connecting all of the following points in the order stated:

(1) 44°42.72′ N lat., 125°18.49′ W long.;

(2) 44°56.26′ N lat., 125°12.61′ W long.;

(3) 44°56.34′ N lat., 125°09.13′ W long.;

(4) 44°49.93′ N lat., 125°01.51′ W long.;

(5) 44°46.93′ N lat., 125°02.83′ W long.;

(6) 44°41.96′ N lat., 125°10.64′ W long.;

(7) 44°33.36′ N lat., 125°08.82′ W long.;

(8) 44°33.38′ N lat., 125°17.08′ W long.;

and connecting back to 44°42.72′ N lat., 125°18.49′ W long.

(i) Daisy Bank/Nelson Island. The boundary of the Daisy Bank/Nelson Island EFHCA is defined by straight lines connecting all of the following points in the order stated:

(1) 44°39.24′ N lat., 124°38.65′ W long.;

(2) 44°37.17′ N lat., 124°38.60′ W long.;

(3) 44°35.55′ N lat., 124°39.27′ W long.;

(4) 44°37.57′ N lat., 124°41.70′ W long.;

(5) 44°36.90′ N lat., 124°42.91′ W long.;

(6) 44°38.25′ N lat., 124°46.28′ W long.;

(7) 44°38.52′ N lat., 124°49.11′ W long.;

(8) 44°40.27′ N lat., 124°49.11′ W long.;

(9) 44°41.35′ N lat., 124°48.03′ W long.;

(10) 44°43.92′ N lat., 124°44.66′ W long.;

and connecting back to 44°39.24′ N lat., 124°38.65′ W long.

(j) Newport Rockpile/Stonewall Bank. The boundary of the Newport Rockpile/Stonewall Bank EFHCA is defined by straight lines connecting all of the following points in the order stated:

(1) 44°27.42′ N lat., 124°19.52′ W long.;

(2) 44°27.42′ N lat., 124°25.31′ W long.;

(3) 44°29.05′ N lat., 124°28.88′ W long.;

(4) 44°35.33′ N lat., 124°28.87′ W long.;

(5) 44°36.94′ N lat., 124°26.78′ W long.;

(6) 44°38.62′ N lat., 124°26.76′ W long.;

(7) 44°39.02′ N lat., 124°25.56′ W long.;

(8) 44°38.41′ N lat., 124°22.73′ W long.;

(9) 44°35.12′ N lat., 124°21.79′ W long.;

(10) 44°28.82′ N lat., 124°18.80′ W long.;

and connecting back to 44°27.42′ N lat., 124°19.52′ W long.

(k) Hydrate Ridge. The boundary of the Hydrate Ridge EFHCA is defined by straight lines connecting all of the following points in the order stated:

(1) 44°28.31′ N lat., 125°11.42′ W long.;

(2) 44°33.37′ N lat., 125°11.13′ W long.;

(3) 44°33.36′ N lat., 125°08.82′ W long.;

(4) 44°35.36′ N lat., 125°09.24′ W long.;

(5) 44°35.36′ N lat., 125°07.79′ W long.;

(6) 44°28.31′ N lat., 125°07.66′ W long.;

and connecting back to 44°28.31′ N lat., 125°11.42′ W long.

(l) Heceta Bank. The boundary of the Heceta Bank EFHCA is defined by straight lines connecting all of the following points in the order stated:

(1) 44°22.27′ N lat., 124°37.63′ W long.;

(2) 44°20.56′ N lat., 124°36.27′ W long.;

(3) 44°21.06′ N lat., 124°32.69′ W long.;

(4) 44°21.76′ N lat., 124°29.28′ W long.;

(5) 44°21.23′ N lat., 124°28.08′ W long.;

(6) 44°18.68′ N lat., 124°28.13′ W long.;

(7) 44°17.66′ N lat., 124°31.42′ W long.;

(8) 44°14.32′ N lat., 124°31.15′ W long.;

(9) 44°13.02′ N lat., 124°31.53′ W long.;

(10) 44°12.97′ N lat., 124°32.29′ W long.;

(11) 44°13.84′ N lat., 124°32.87′ W long.;

(12) 44°16.64′ N lat., 124°33.44′ W long.;

(13) 44°17.00′ N lat., 124°33.52′ W long.;

(14) 44°15.93′ N lat., 124°35.93′ W long.;

(15) 44°14.38′ N lat., 124°37.37′ W long.;

(16) 44°13.52′ N lat., 124°40.45′ W long.;

(17) 44°09.00′ N lat., 124°45.30′ W long.;

(18) 44°03.46′ N lat., 124°45.71′ W long.;

(19) 43°58.55′ N lat., 124°45.79′ W long.;

(20) 43°57.37′ N lat., 124°50.89′ W long.;

(21) 43°56.66′ N lat., 124°54.47′ W long.;

(22) 43°57.24′ N lat., 124°55.54′ W long.;

(23) 43°57.68′ N lat., 124°55.48′ W long.;

(24) 44°00.14′ N lat., 124°55.25′ W long.;

(25) 44°02.88′ N lat., 124°53.96′ W long.;

(26) 44°13.47′ N lat., 124°54.08′ W long.;

(27) 44°19.27′ N lat., 124°41.03′ W long.;

(28) 44°24.16′ N lat., 124°40.62′ W long.;

(29) 44°24.10′ N lat., 124°38.10′ W long.;

and connecting back to 44°22.27′ N lat., 124°37.63′ W long.

(m) Deepwater off Coos Bay. The boundary of the Deepwater off Coos Bay EFHCA is defined by straight lines connecting all of the following points in the order stated:

(1) 43°29.32′ N lat., 125°20.11′ W long.;

(2) 43°38.96′ N lat., 125°18.75′ W long.;

(3) 43°37.88′ N lat., 125°08.26′ W long.;

(4) 43°36.58′ N lat., 125°06.56′ W long.;

(5) 43°33.04′ N lat., 125°08.41′ W long.;

(6) 43°27.74′ N lat., 125°07.25′ W long.;

(7) 43°15.95′ N lat., 125°07.84′ W long.;

(8) 43°15.38′ N lat., 125°10.47′ W long.;

(9) 43°25.73′ N lat., 125°19.36′ W long.;

and connecting back to 43°29.32′ N lat., 125°20.11′ W long.

(n) Arago Reef. The boundary of the Arago Reef EFHCA is defined as the areas within the West Coast EEZ shoreward (east) of a boundary line defined by connecting the following coordinates in the order stated:

(1) 43°08.49′ N lat., 124°30.78′ W long.;

(2) 43°08.55′ N lat., 124°30.79′ W long.;

(3) 43°10.22′ N lat., 124°37.82′ W long.;

(4) 43°16.91′ N lat., 124°37.50′ W long.;

(5) 43°16.51′ N lat., 124°28.97′ W long.; and

(6) 43°16.88′ N lat., 124°28.16′ W long.

(o) Bandon High Spot. The boundary of the Bandon High Spot EFHCA is defined by straight lines connecting all of the following points in the order stated:

(1) 42°57.18′ N lat., 124°46.01′ W long.;

(2) 42°56.10′ N lat., 124°47.48′ W long.;

(3) 42°56.66′ N lat., 124°48.79′ W long.;

(4) 42°53.67′ N lat., 124°51.81′ W long.;

(5) 42°54.00′ N lat., 124°53.03′ W long.;

(6) 42°55.11′ N lat., 124°53.71′ W long.;

(7) 42°58.00′ N lat., 124°52.99′ W long.;

(8) 43°00.39′ N lat., 124°51.77′ W long.;

(9) 43°02.64′ N lat., 124°52.01′ W long.;

(10) 43°06.07′ N lat., 124°50.97′ W long.;

(11) 43°06.07′ N lat., 124°50.23′ W long.;

(12) 43°04.47′ N lat., 124°48.50′ W long.;

(13) 43°03.20′ N lat., 124°47.52′ W long.;

(14) 43°00.94′ N lat., 124°46.57′ W long.;

and connecting back to 42°57.18′ N lat., 124°46.01′ W long.

(p) President Jackson Seamount. The boundary of the President Jackson Seamount EFHCA is defined by straight lines connecting all of the following points in the order stated:

(1) 42°21.41′ N lat., 127°42.91′ W long.;

(2) 42°21.96′ N lat., 127°43.73′ W long.;

(3) 42°23.78′ N lat., 127°46.09′ W long.;

(4) 42°26.05′ N lat., 127°48.64′ W long.;

(5) 42°28.60′ N lat., 127°52.10′ W long.;

(6) 42°31.06′ N lat., 127°55.02′ W long.;

(7) 42°34.61′ N lat., 127°58.84′ W long.;

(8) 42°37.34′ N lat., 128°01.48′ W long.;

(9) 42°39.62′ N lat., 128°05.12′ W long.;

(10) 42°41.81′ N lat., 128°08.13′ W long.;

(11) 42°43.44′ N lat., 128°10.04′ W long.;

(12) 42°44.99′ N lat., 128°12.04′ W long.;

(13) 42°48.27′ N lat., 128°15.05′ W long.;

(14) 42°51.28′ N lat., 128°15.05′ W long.;

(15) 42°53.64′ N lat., 128°12.23′ W long.;

(16) 42°52.64′ N lat., 128°08.49′ W long.;

(17) 42°51.64′ N lat., 128°06.94′ W long.;

(18) 42°50.27′ N lat., 128°05.76′ W long.;

(19) 42°48.18′ N lat., 128°03.76′ W long.;

(20) 42°45.45′ N lat., 128°01.94′ W long.;

(21) 42°42.17′ N lat., 127°57.57′ W long.;

(22) 42°41.17′ N lat., 127°53.92′ W long.;

(23) 42°38.80′ N lat., 127°49.92′ W long.;

(24) 42°36.43′ N lat., 127°44.82′ W long.;

(25) 42°33.52′ N lat., 127°41.36′ W long.;

(26) 42°31.24′ N lat., 127°39.63′ W long.;

(27) 42°28.33′ N lat., 127°36.53′ W long.;

(28) 42°23.96′ N lat., 127°35.89′ W long.;

(29) 42°21.96′ N lat., 127°37.72′ W long.;

(30) 42°21.05′ N lat., 127°40.81′ W long.;

and connecting back to 42°21.41′ N lat., 127°42.91′ W long.

(q) Rogue Canyon. The boundary of the Rogue Canyon EFHCA is defined by straight lines connecting all of the following points in the order stated:

(1) 42°41.33′ N lat., 125°16.61′ W long.;

(2) 42°41.55′ N lat., 125°03.05′ W long.;

(3) 42°35.29′ N lat., 125°02.21′ W long.;

(4) 42°34.11′ N lat., 124°55.62′ W long.;

(5) 42°30.61′ N lat., 124°54.97′ W long.;

(6) 42°23.81′ N lat., 124°52.85′ W long.;

(7) 42°17.94′ N lat., 125°10.17′ W long.;

and connecting back to 42°41.33′ N lat., 125°16.61′ W long.

(r) Rogue River Reef. The boundary of the Rogue River Reef EFHCA is defined as the areas within the West Coast EEZ shoreward (east) of a boundary line defined by connecting the following coordinates in the order stated:

(1) 42°23.27′ N lat., 124°30.03′ W long.;

(2) 42°24.10′ N lat., 124°32.41′ W long.;

(3) 42°22.28′ N lat., 124°39.92′ W long.;

(4) 42°25.46′ N lat., 124°43.91′ W long.;

(5) 42°27.87′ N lat., 124°44.63′ W long.;

(6) 42°29.27′ N lat., 124°44.22′ W long.;

(7) 42°29.71′ N lat., 124°39.83′ W long.;

(8) 42°29.36′ N lat., 124°36.53′ W long.; and

(9) 42°28.16′ N lat., 124°34.05′ W long.

14. Revise § 660.79 to read as follows:

§ 660.79 EFHCAs off the Coast of California.

(a) General. Boundary line coordinates for EFHCA off California are provided in this section. Fishing activity that is prohibited or permitted within the EEZ in a particular area designated as a groundfish EFHCA is detailed at §§ 660.12, 660.112, 660.130, 660.212, 660.230, 660.312, 660.330, and 660.360.

(b) Brush Patch. The boundary of the Brush Patch EFHCA is defined by straight lines connecting all of the following points in the order stated:

(1) 41°51.03′ N lat., 124°48.65′ W long.;

(2) 41°51.98′ N lat., 124°51.00′ W long.;

(3) 41°53.63′ N lat., 124°53.12′ W long.;

(4) 41°55.22′ N lat., 124°54.50′ W long.;

(5) 41°57.16′ N lat., 124°54.87′ W long.;

(6) 41°59.16′ N lat., 124°52.89′ W long.;

(7) 41°58.93′ N lat., 124°51.25′ W long.;

(8) 41°57.98′ N lat., 124°50.42′ W long.;

(9) 41°54.50′ N lat., 124°49.72′ W long.;

(10) 41°52.66′ N lat., 124°47.85′ W long.;

(11) 41°51.24′ N lat., 124°47.23′ W long.;

and connecting back to 41°51.03′ N lat., 124°48.65′ W long.

(c) Trinidad Canyon. The boundary of the Trinidad Canyon EFHCA is defined by straight lines connecting all of the following points in the order stated:

(1) 41°07.81′ N lat., 124°51.29′ W long.;

(2) 41°14.52′ N lat., 124°52.67′ W long.;

(3) 41°17.66′ N lat., 124°54.31′ W long.;

(4) 41°18.37′ N lat., 124°45.50′ W long.;

(5) 41°17.60′ N lat., 124°43.42′ W long.;

(6) 41°09.44′ N lat., 124°43.11′ W long.;

and connecting back to 41°07.81′ N lat., 124°51.29′ W long.

(d) Mad River Rough Patch. The boundary of the Mad River Rough Patch EFHCA is defined by straight lines connecting all of the following points in the order stated:

(1) 40°53.66′ N lat., 124°26.68′ W long.;

(2) 40°54.49′ N lat., 124°28.22′ W long.;

(3) 40°54.88′ N lat., 124°28.54′ W long.;

(4) 40°57.27′ N lat., 124°29.10′ W long.;

(5) 40°57.37′ N lat., 124°28.96′ W long.;

(6) 40°57.27′ N lat., 124°28.34′ W long.;

(7) 40°54.56′ N lat., 124°26.25′ W long.;

(8) 40°54.13′ N lat., 124°26.27′ W long.;

and connecting back to 40°53.66′ N lat., 124°26.68′ W long.

(e) Samoa Deepwater. The boundary of the Samoa Deepwater EFHCA is defined by straight lines connecting all of the following points in the order stated:

(1) 40°50.11′ N lat., 124°35.29′ W long.;

(2) 40°46.37′ N lat., 124°34.69′ W long.;

(3) 40°48.50′ N lat., 124°39.04′ W long.;

(4) 40°51.96′ N lat., 124°41.23′ W long.;

(5) 40°52.04′ N lat., 124°38.08′ W long.;

and connecting back to 40°50.11′ N lat., 124°35.29′ W long.

(f) Eel River Canyon. The boundary of the Eel River Canyon EFHCA is defined by straight lines connecting all of the following points in the order stated:

(1) 40°40.33′ N lat., 124°41.82′ W long.;

(2) 40°39.69′ N lat., 124°33.36′ W long.;

(3) 40°40.13′ N lat., 124°32.61′ W long.;

(4) 40°39.84′ N lat., 124°31.21′ W long.;

(5) 40°39.36′ N lat., 124°30.48′ W long.;

(6) 40°39.42′ N lat., 124°29.40′ W long.;

(7) 40°38.91′ N lat., 124°28.42′ W long.;

(8) 40°38.57′ N lat., 124°28.49′ W long.;

(9) 40°37.56′ N lat., 124°28.78′ W long.;

(10) 40°37.08′ N lat., 124°28.42′ W long.;

(11) 40°35.79′ N lat., 124°29.21′ W long.;

(12) 40°37.52′ N lat., 124°33.41′ W long.;

(13) 40°37.51′ N lat., 124°34.46′ W long.;

(14) 40°38.22′ N lat., 124°35.72′ W long.;

(15) 40°38.27′ N lat., 124°39.11′ W long.;

(16) 40°37.47′ N lat., 124°40.46′ W long.;

(17) 40°35.47′ N lat., 124°42.97′ W long.;

(18) 40°32.78′ N lat., 124°44.79′ W long.;

(19) 40°24.32′ N lat., 124°39.97′ W long.;

(20) 40°23.26′ N lat., 124°42.45′ W long.;

(21) 40°27.34′ N lat., 124°51.21′ W long.;

(22) 40°32.68′ N lat., 124°65.63′ W long.;

(23) 40°49.12′ N lat., 124°47.41′ W long.;

(24) 40°44.32′ N lat., 124°46.48′ W long.;

(25) 40°41.67′ N lat., 124°42.92′ W long.;

and connecting back to 40°40.33′ N lat., 124°41.82′ W long.

(g) Blunts Reef. The Blunts Reef EFHCA consists of the two adjacent polygons defined in this paragraph, combined.

(1) Blunts Reef North. The boundary of Blunts Reef North is defined by straight lines connecting all of the following points in the order stated:

(i) 40°30.21′ N lat., 124°26.85′ W long.;

(ii) 40°27.53′ N lat., 124°26.84′ W long.;

(iii) 40°24.66′ N lat., 124°29.49′ W long.;

(iv) 40°27.84′ N lat., 124°31.92′ W long.;

(v) 40°28.31′ N lat., 124°33.49′ W long.;

(vi) 40°29.99′ N lat., 124°33.49′ W long.;

(vii) 40°30.46′ N lat., 124°32.23′ W long.;

and connecting back to 40°30.21′ N lat., 124°26.85′ W long.

(2) Blunts Reef South. The boundary of Blunts Reef South is defined as the areas within the West Coast EEZ shoreward (east) of a boundary line defined by straight lines connecting the following coordinates in the order stated:

(i) 40°27.84′ N lat., 124°31.92′ W long.;

(ii) 40°28.31′ N lat., 124°33.49′ W long.;

(iii) 40°22.49′ N lat., 124°30.92′ W long.; and

(iv) 40°23.67′ N lat., 124°28.43′ W long.

(h) Mendocino Ridge. The Mendocino Ridge EFHCA consists of the two adjacent polygons defined in this paragraph, combined.

(1) Mendocino Ridge North. The boundary of Mendocino Ridge North is defined by straight lines connecting all of the following points in the order stated:

(i) 40°25.23′ N lat., 124°24.06′ W long.;

(ii) 40°12.50′ N lat., 124°22.59′ W long.;

(iii) 40°13.84′ N lat., 124°31.89′ W long.;

(iv) 40°14.96′ N lat., 124°35.42′ W long.;

(v) 40°15.92′ N lat., 124°36.38′ W long.;

(vi) 40°15.81′ N lat., 124°38.37′ W long.;

(vii) 40°17.45′ N lat., 124°45.42′ W long.;

(viii) 40°18.39′ N lat., 124°48.55′ W long.;

(ix) 40°19.98′ N lat., 124°52.73′ W long.;

(x) 40°20.06′ N lat., 125°02.18′ W long.;

(xi) 40°11.79′ N lat., 125°07.39′ W long.;

(xii) 40°12.55′ N lat., 125°11.56′ W long.;

(xiii) 40°12.81′ N lat., 125°12.98′ W long.;

(xiv) 40°20.72′ N lat., 125°57.31′ W long.;

(xv) 40°23.96′ N lat., 125°56.83′ W long.;

(xvi) 40°24.04′ N lat., 125°56.82′ W long.;

(xvii) 40°25.68′ N lat., 125°09.77′ W long.;

(xviii) 40°21.03′ N lat., 124°33.96′ W long.;

(xix) 40°25.72′ N lat., 124°24.15′ W long.;

and connecting back to 40°25.23′ N lat., 124°24.06′ W long.

(2) Mendocino Ridge South. The boundary of Mendocino Ridge South is defined as the areas within the West Coast EEZ shoreward (east) of a boundary line defined by connecting the following coordinates in the order stated:

(i) 40°10.03′ N lat., 124°20.51′ W long.;

(ii) 40°10.42′ N lat., 124°22.26′ W long.;

(iii) 40°13.84′ N lat., 124°31.89′ W long.; and

(iv) 40°12.82′ N lat., 124°24.85′ W long.

(i) Delgada Canyon. The boundary of the Delgada Canyon EFHCA is defined as the areas of the state territorial sea, east of the West Coast EEZ and within a boundary line defined by connecting the following coordinates in the order stated:

(1) 40°06.58′ N lat., 124°07.39′ W long.;

(2) 40°01.37′ N lat., 124°08.79′ W long.;

(3) 40°04.35′ N lat., 124°10.89′ W long.;

(4) 40°05.71′ N lat., 124°09.42′ W long.;

(5) 40°07.18′ N lat., 124°09.61′ W long.; and

(6) 40°07.13′ N lat., 124°09.09′ W long.

(j) Tolo Bank. The boundary of the Tolo Bank EFHCA is defined by straight lines connecting all of the following points in the order stated:

(1) 39°58.75′ N lat., 124°04.58′ W long.;

(2) 39°56.05′ N lat., 124°01.45′ W long.;

(3) 39°53.99′ N lat., 124°00.17′ W long.;

(4) 39°52.28′ N lat., 124°03.12′ W long.;

(5) 39°57.90′ N lat., 124°07.07′ W long.;

and connecting back to 39°58.75′ N lat., 124°04.58′ W long.

(k) Navarro Canyon. The boundary of the Navarro Canyon EFHCA is defined by straight lines connecting all of the following points in the order stated:

(1) 39°04.76′ N lat., 124°11.80′ W long.;

(2) 39°11.84′ N lat., 124°13.30′ W long.;

(3) 39°11.39′ N lat., 124°10.38′ W long.;

(4) 39°08.73′ N lat., 124°10.38′ W long.;

(5) 39°07.16′ N lat., 124°08.98′ W long.;

(6) 39°06.07′ N lat., 124°08.55′ W long.;

and connecting back to 39°04.76′ N lat., 124°11.80′ W long.

(l) Point Arena North. The boundary of the Point Arena North EFHCA is defined by straight lines connecting all of the following points in the order stated:

(1) 39°03.32′ N lat., 123°51.15′ W long.;

(2) 38°56.54′ N lat., 123°49.79′ W long.;

(3) 38°54.12′ N lat., 123°52.69′ W long.;

(4) 38°59.64′ N lat., 123°55.02′ W long.;

(5) 39°02.83′ N lat., 123°55.21′ W long.;

and connecting back to 39°03.32′ N lat., 123°51.15′ W long.

(m) Point Arena South Biogenic Area. The boundary of the Point Arena South Biogenic Area EFHCA is defined by straight lines connecting all of the following points in the order stated:

(1) 38°33.24′ N lat., 123°35.18′ W long.;

(2) 38°32.01′ N lat., 123°35.78′ W long.;

(3) 38°33.19′ N lat., 123°40.30′ W long.;

(4) 38°34.62′ N lat., 123°42.32′ W long.;

(5) 38°35.98′ N lat., 123°44.22′ W long.;

(6) 38°38.27′ N lat., 123°46.57′ W long.;

(7) 38°41.11′ N lat.,123°48.69′ W long.;

(8) 38°41.95′ N lat., 123°45.41′ W long.;

(9) 38°36.02′ N lat., 123°41.30′ W long.;

(10) 38°34.37′ N lat., 123°37.47′ W long.;

and connecting back to 38°33.24′ N lat., 123°35.18′ W long.

(n) The Football. The boundary of The Football EFHCA is defined by straight lines connecting all of the following points in the order stated:

(1) 38°24.36′ N lat., 123°32.10′ W long.;

(2) 38°23.58′ N lat., 123°33.96′ W long.;

(3) 38°29.10′ N lat., 123°37.32′ W long.;

(4) 38°29.04′ N lat., 123°35.04′ W long.;

and connecting back to 38°24.36′ N lat., 123°32.10′ W long.

(o) Gobbler's Knob. The boundary of the Gobbler's Knob EFHCA is defined by straight lines connecting all of the following points in the order stated:

(1) 38°06.84′ N lat., 123°25.98′ W long.;

(2) 38°07.14′ N lat., 123°27.60′ W long.;

(3) 38°11.64′ N lat., 123°29.58′ W long.;

(4) 38°12.36′ N lat., 123°28.80′ W long.;

(5) 38°12.42′ N lat., 123°27.78′ W long.;

(6) 38°08.70′ N lat., 123°25.98′ W long.;

and connecting back to 38°06.84′ N lat., 123°25.98′ W long.

(p) Point Reyes Reef. The boundary of the Point Reyes Reef EFHCA is defined as the areas within the West Coast EEZ shoreward (east) of a boundary line defined by connecting the following coordinates in the order stated:

(1) 38°2.88′ N lat., 123°03.46′ W long.;

(2) 38°2.98′ N lat., 123°03.84′ W long.;

(3) 38°6.52′ N lat., 123°03.63′ W long.;

(4) 38°8.69′ N lat., 123°01.86′ W long.; and

(5) 38°8.92′ N lat., 123°00.90′ W long.

(q) Cordell Bank/Biogenic Area. The boundary of the Cordell Bank/Biogenic Area EFHCA is located offshore of California's Marin County defined by straight lines connecting all of the following points in the order stated:

(1) 38°05.46′ N lat., 123°25.97′ W long.;

(2) 38°04.44′ N lat., 123°24.44′ W long.;

(3) 38°03.05′ N lat., 123°21.33′ W long.;

(4) 38°03.07′ N lat., 123°07.35′ W long.;

(5) 38°02.84′ N lat., 123°07.36′ W long.;

(6) 38°01.09′ N lat., 123°07.06′ W long.;

(7) 38°01.02′ N lat., 123°22.08′ W long.;

(8) 37°54.75′ N lat., 123°23.64′ W long.;

(9) 37°46.01′ N lat., 123°25.62′ W long.;

(10) 37°46.68′ N lat., 123°27.05′ W long.;

(11) 37°47.66′ N lat., 123°28.18′ W long.;

(12) 37°50.26′ N lat., 123°30.94′ W long.;

(13) 37°54.41′ N lat., 123°32.69′ W long.;

(14) 37°56.94′ N lat., 123°32.87′ W long.;

(15) 37°57.09′ N lat., 123°26.39′ W long.;

(16) 37°57.76′ N lat., 123°26.48′ W long.;

(17) 37°58.57′ N lat., 123°26.95′ W long.;

(18) 37°59.94′ N lat., 123°28.58′ W long.;

(19) 38°00.27′ N lat., 123°29.32′ W long.;

(20) 38°00.63′ N lat., 123°29.95′ W long.;

(21) 38°01.23′ N lat., 123°30.53′ W long.;

(22) 38°01.60′ N lat., 123°30.81′ W long.;

(23) 38°01.84′ N lat., 123°31.05′ W long.;

(24) 38°02.00′ N lat., 123°31.31′ W long.;

(25) 38°02.37′ N lat., 123°31.45′ W long.;

(26) 38°03.99′ N lat., 123°30.75′ W long.;

(27) 38°04.85′ N lat., 123°30.36′ W long.;

(28) 38°05.73′ N lat., 123°28.46′ W long.;

and connecting back to 38°05.46′ N lat., 123°25.97′ W long.

(r) Cordell Bank (50-fm (91-m) isobath). The boundary of the Cordell Bank (50-fm (91-m) isobath) EFHCA is located offshore of California's Marin County defined by straight lines connecting all of the following points in the order stated:

(1) 37°57.62′ N lat., 123°24.22′ W long.;

(2) 37°57.70′ N lat., 123°25.25′ W long.;

(3) 37°59.47′ N lat., 123°26.63′ W long.;

(4) 38°00.24′ N lat., 123°27.87′ W long.;

(5) 38°00.98′ N lat., 123°27.65′ W long.;

(6) 38°02.81′ N lat., 123°28.75′ W long.;

(7) 38°04.26′ N lat., 123°29.25′ W long.;

(8) 38°04.55′ N lat., 123°28.32′ W long.;

(9) 38°03.87′ N lat., 123°27.69′ W long.;

(10) 38°04.27′ N lat., 123°26.68′ W long.;

(11) 38°02.67′ N lat., 123°24.17′ W long.;

(12) 38°00.87′ N lat., 123°23.15′ W long.;

(13) 37°59.32′ N lat., 123°22.52′ W long.;

(14) 37°58.24′ N lat., 123°23.16′ W long.;

and connecting back to 37°57.62′ N lat., 123°24.22′ W long.

(s) Rittenburg Bank. The boundary of the Rittenburg Bank EFHCA is defined by straight lines connecting all of the following points in the order stated:

(1) 37°51.36′ N lat., 123°19.18′ W long.;

(2) 37°53.61′ N lat., 123°21.67′ W long.;

(3) 37°54.32′ N lat., 123°19.69′ W long.;

(4) 37°53.98′ N lat., 123°18.99′ W long.;

(5) 37°54.96′ N lat., 123°16.32′ W long.;

(6) 37°53.32′ N lat., 123°15.00′ W long.;

and connecting back to 37°51.36′ N lat., 123°19.18′ W long.

(t) Farallon Islands/Fanny Shoal/Cochrane Bank. The boundary of the Farallon Islands/Fanny Shoal/Cochrane Bank EFHCA is defined by straight lines connecting all of the following points in the order stated:

(1) 37°51.58′ N lat., 123°14.07′ W long.;

(2) 37°44.51′ N lat., 123°01.50′ W long.;

(3) 37°41.71′ N lat., 122°58.38′ W long.;

(4) 37°40.80′ N lat., 122°58.54′ W long.;

(5) 37°39.87′ N lat., 122°59.64′ W long.;

(6) 37°42.05′ N lat., 123°03.72′ W long.;

(7) 37°43.73′ N lat., 123°04.45′ W long.;

(8) 37°46.94′ N lat., 123°11.65′ W long.;

(9) 37°46.51′ N lat., 123°14.14′ W long.;

(10) 37°47.87′ N lat., 123°16.94′ W long.;

(11) 37°49.23′ N lat., 123°16.81′ W long.;

and connecting back to 37°51.58′ N lat., 123°14.07′ W long.

(u) Farallon Escarpment. The boundary of the Farallon Escarpment EFHCA is defined by straight lines connecting all of the following points in the order stated:

(1) 37°44.85′ N lat., 123°13.73′ W long.;

(2) 37°45.58′ N lat., 123°12.74′ W long.;

(3) 37°45.18′ N lat., 123°11.87′ W long.;

(4) 37°42.71′ N lat., 123°09.04′ W long.;

(5) 37°40.73′ N lat., 123°08.42′ W long.;

(6) 37°39.15′ N lat., 123°06.76′ W long.;

(7) 37°38.26′ N lat., 123°08.27′ W long.;

(8) 37°34.32′ N lat., 123°07.43′ W long.;

(9) 37°29.55′ N lat., 123°09.74′ W long.;

(10) 37°29.18′ N lat., 123°13.97′ W long.;

(11) 37°40.29′ N lat., 123°12.83′ W long.;

(12) 37°47.52′ N lat., 123°25.28′ W long.;

(13) 37°50.65′ N lat., 123°24.57′ W long.;

and connecting back to 37°44.85′ N lat., 123°13.73′ W long.

(v) Half Moon Bay. The boundary of the Half Moon Bay EFHCA is defined by straight lines connecting all of the following points in the order stated:

(1) 37°18.14′ N lat., 122°31.15′ W long.;

(2) 37°19.80′ N lat., 122°34.70′ W long.;

(3) 37°19.28′ N lat., 122°38.76′ W long.;

(4) 37°23.54′ N lat., 122°40.75′ W long.;

(5) 37°25.41′ N lat., 122°33.20′ W long.;

(6) 37°23.28′ N lat., 122°30.71′ W long.;

and connecting back to 37°18.14′ N lat., 122°31.15′ W long.

(w) Pescadero Reef. The boundary of the Pescadero Reef EFHCA is defined as the areas within the West Coast EEZ shoreward (east) of a boundary line defined by connecting the following coordinates in the order stated:

(1) 37°17.18′ N lat., 122°28.34′ W long.;

(2) 37°17.76′ N lat., 122°29.59′ W long.;

(3) 37°19.38′ N lat., 122°29.63′ W long.; and

(4) 37°19.50′ N lat., 122°28.00′ W long.;

(x) Pigeon Point Reef. The boundary of the Pigeon Point EFHCA is defined by straight lines connecting all of the following points in the order stated:

(1) 37°06.02′ N lat., 122°28.14′ W long.;

(2) 37°08.91′ N lat., 122°31.76′ W long.;

(3) 37°10.29′ N lat., 122°29.70′ W long.;

(4) 37°07.20′ N lat., 122°26.82′ W long.;

and connecting back to 37°06.02′ N lat., 122°28.14′ W long.

(y) Ascension Canyonhead. The boundary of the Ascension Canyonhead EFHCA is defined by straight lines connecting all of the following points in the order stated:

(1) 36°56.88′ N lat., 122°24.84′ W long.;

(2) 36°57.30′ N lat., 122°26.36′ W long.;

(3) 36°56.65′ N lat., 122°27.06′ W long.;

(4) 37°01.55′ N lat., 122°24.73′ W long.;

(5) 37°01.40′ N lat., 122°24.37′ W long.;

(6) 37°01.00′ N lat., 122°24.35′ W long.;

(7) 37°00.61′ N lat., 122°24.03′ W long.;

(8) 36°59.20′ N lat., 122°24.64′ W long.;

and connecting back to 36°56.88′ N lat., 122°24.84′ W long.

(z) South of Davenport. The boundary of the South of Davenport EFHCA is defined by straight lines connecting all of the following points in the order stated:

(1) 36°54.00′ N lat., 122°13.05′ W long.;

(2) 36°56.79′ N lat., 122°17.91′ W long.;

(3) 36°57.80′ N lat., 122°18.14′ W long.;

(4) 36°57.84′ N lat., 122°17.72′ W long.;

(5) 36°57.38′ N lat., 122°17.05′ W long.;

(6) 36°55.84′ N lat., 122°14.26′ W long.;

(7) 36°54.80′ N lat., 122°12.61′ W long.;

(8) 36°54.49′ N lat., 122°12.48′ W long.;

and connecting back to 36°54.00′ N lat., 122°13.05′ W long.

(aa) Monterey Bay/Canyon. The boundary of the Monterey Bay/Canyon EFHCA is defined by straight lines connecting all of the following points in the order stated:

(1) 36°54.17′ N lat., 122°23.68′ W long.;

(2) 36°53.58′ N lat., 122°22.48′ W long.;

(3) 36°52.72′ N lat., 122°22.11′ W long.;

(4) 36°49.09′ N lat., 122°21.84′ W long.;

(5) 36°50.47′ N lat., 122°19.03′ W long.;

(6) 36°49.60′ N lat., 122°15.08′ W long.;

(7) 36°49.37′ N lat., 122°15.20′ W long.;

(8) 36°48.31′ N lat., 122°18.59′ W long.;

(9) 36°45.55′ N lat., 122°18.91′ W long.;

(10) 36°44.32′ N lat., 122°18.49′ W long.;

(11) 36°42.04′ N lat., 122°16.07′ W long.;

(12) 36°40.30′ N lat., 122°13.31′ W long.;

(13) 36°39.88′ N lat., 122°09.69′ W long.;

(14) 36°40.02′ N lat., 122°09.09′ W long.;

(15) 36°40.99′ N lat., 122°08.53′ W long.;

(16) 36°41.30′ N lat., 122°09.35′ W long.;

(17) 36°44.94′ N lat., 122°08.46′ W long.;

(18) 36°46.31′ N lat., 122°05.48′ W long.;

(19) 36°48.50′ N lat., 122°06.02′ W long.;

(20) 36°49.18′ N lat., 122°03.12′ W long.;

(21) 36°47.80′ N lat., 122°02.71′ W long.;

(22) 36°49.60′ N lat., 122°00.85′ W long.;

(23) 36°51.53′ N lat., 121°58.25′ W long.;

(24) 36°50.78′ N lat., 121°56.89′ W long.;

(25) 36°47.39′ N lat., 121°58.16′ W long.;

(26) 36°48.34′ N lat., 121°50.95′ W long.;

(27) 36°47.23′ N lat., 121°52.25′ W long.;

(28) 36°45.60′ N lat., 121°54.17′ W long.;

(29) 36°44.76′ N lat., 121°56.04′ W long.;

(30) 36°41.68′ N lat., 121°56.33′ W long.;

(31) 36°38.21′ N lat., 121°55.96′ W long.; extending along the mainland coast to

(32) 36°25.31′ N lat., 121°54.86′ W long.;

(33) 36°25.25′ N lat., 121°58.34′ W long.;

(34) 36°30.86′ N lat., 122°00.45′ W long.;

(35) 36°30.78′ N lat., 122°01.32′ W long.;

(36) 36°31.22′ N lat., 122°01.35′ W long.;

(37) 36°32.38′ N lat., 122°01.69′ W long.;

(38) 36°35.41′ N lat., 122°04.44′ W long.;

(39) 36°34.69′ N lat., 122°04.99′ W long.;

(40) 36°30.59′ N lat., 122°03.45′ W long.;

(41) 36°30.02′ N lat., 122°09.85′ W long.;

(42) 36°30.23′ N lat., 122°36.82′ W long.;

(43) 36°55.08′ N lat., 122°36.46′ W long.;

(44) 36°54.01′ N lat., 122°29.95′ W long.;

(45) 36°56.65′ N lat., 122°27.06′ W long.;

(46) 36°57.30′ N lat., 122°26.36′ W long.;

(47) 36°56.88′ N lat., 122°24.84′ W long.;

(48) 36°56.53′ N lat., 122°23.58′ W long.;

and connecting back to 36°54.17′ N lat., 122°23.68′ W long.

(bb) West of Sobranes Point. The boundary of the West of Sobranes Point EFHCA is defined by straight lines connecting all of the following points in the order stated:

(1) 36°30.59′ N lat., 122°03.45′ W long.;

(2) 36°25.41′ N lat., 122°13.54′ W long.;

(3) 36°25.71′ N lat., 122°17.22′ W long.;

(4) 36°30.02′ N lat., 122°09.85′ W long.;

and connecting back to 36°30.59′ N lat., 122°03.45′ W long.

(cc) Point Sur Deep. The boundary of the Point Sur Deep EFHCA is defined by straight lines connecting all of the following points in the order stated:

(1) 36°17.95′ N lat., 122°17.13′ W long.;

(2) 36°17.83′ N lat., 122°22.56′ W long.;

(3) 36°22.33′ N lat., 122°22.99′ W long.;

(4) 36°26.00′ N lat., 122°20.81′ W long.;

(5) 36°25.41′ N lat., 122°13.54′ W long.;

and connecting back to 36°17.95′ N lat., 122°17.13′ W long.

(dd) Big Sur Coast/Port San Luis. The Big Sur Coast/Port San Luis EFHCA consists of the three adjacent polygons defined in this paragraph, combined.

(1) Main. The main EFHCA covers Davidson Seamount, portions of Santa Lucia Bank and Sur Canyon, and is defined by straight lines connecting all of the following points in the order stated:

(i) 36°15.74′ N lat., 121°56.75′ W long.;

(ii) 36°15.84′ N lat., 121°56.35′ W long.;

(iii) 36°14.27′ N lat., 121°53.89′ W long.;

(iv) 36°10.93′ N lat., 121°48.66′ W long.;

(v) 36°07.40′ N lat., 121°43.14′ W long.;

(vi) 36°07.36′ N lat., 121°43.26′ W long.;

(vii) 35°59.00′ N lat., 121°50.49′ W long.;

(viii) 35°55.70′ N lat., 121°50.02′ W long.;

(ix) 35°53.05′ N lat., 121°56.69′ W long.;

(x) 35°38.99′ N lat., 121°49.73′ W long.;

(xi) 35°20.06′ N lat., 121°27.00′ W long.;

(xii) 35°20.39′ N lat., 121°33.08′ W long.;

(xiii) 35°09.72′ N lat., 121°33.92′ W long.;

(xiv) 35°06.21′ N lat., 121°33.51′ W long.;

(xv) 35°04.09′ N lat., 121°32.19′ W long.;

(xvi) 35°02.65′ N lat., 121°30.63′ W long.;

(xvii) 35°02.79′ N lat., 121°26.30′ W long.;

(xviii) 34°58.71′ N lat., 121°24.21′ W long.;

(xix) 34°47.24′ N lat., 121°22.40′ W long.;

(xx) 34°35.70′ N lat., 121°45.99′ W long.;

(xxi) 35°47.36′ N lat., 122°30.25′ W long.;

(xxii) 35°27.26′ N lat., 122°45.15′ W long.;

(xxiii) 35°34.39′ N lat., 123°00.25′ W long.;

(xxiv) 36°01.64′ N lat., 122°40.76' `W long.;

(xxv) 36°17.41′ N lat., 122°41.22′ W long.;

(xxvi) 36°17.83′ N lat., 122°22.56′ W long.;

(xxvii) 36°17.95′ N lat., 122°17.13′ W long.;

(xxviii) 36°13.85′ N lat., 122°15.95′ W long.;

(xxix) 36°12.30′ N lat., 122°10.19′ W long.;

(xxx) 36°09.95′ N lat., 122°03.73′ W long.;

(xxxi) 36°09.93′ N lat., 121°56.57′ W long.;

(xxxii) 36°11.89′ N lat., 121°55.81′ W long.;

(xxxiii) 36°12.58′ N lat., 121°58.55′ W long.;

(xxxiv) 36°13.95′ N lat., 121°58.45′ W long.;

(xxxv) 36°14.84′ N lat., 122°00.28′ W long.;

(xxxvi) 36°15.21′ N lat., 121°58.83′ W long.;

and connecting back to 36°15.74′ N lat., 121°56.75′ W long.

(2) North. This area is a northern expansion in the vicinity of Point Sur Platform and is defined as the areas within the West Coast EEZ shoreward (east) of a boundary line defined by connecting the following coordinates in the order stated:

(i) 36°15.74′ N lat., 121°56.75′ W long.;

(ii) 36°15.21′ N lat., 121°58.83′ W long.;

(iii) 36°16.66′ N lat., 122°01.19′ W long.;

(iv) 36°17.95′ N lat., 122°02.25′ W long.;

(v) 36°18.56′ N lat., 122°01.53′ W long.; and

(vi) 36°17.65′ N lat., 121°57.85′ W long.

(3) Northeast. This area is a northeastern expansion in the vicinity of Partington Point and Lopez Point and is defined as the areas within the West Coast EEZ shoreward (east) of a boundary line defined by connecting the following coordinates in the order stated:

(i) 36°02.32′ N lat., 121°39.40′ W long.;

(ii) 35°58.89′ N lat., 121°45.38′ W long.;

(iii) 35°59.00′ N lat., 121°50.49′ W long.; and

(iv) 36°07.36′ N lat., 121°43.26′ W long.

(ee) Davidson Seamount. The boundary of the Davidson Seamount EFHCA is defined by straight lines connecting the following points in the order stated:

(1) 35°54.00′ N lat., 123°00.00′ W long.;

(2) 35°54.00′ N lat., 122°30.00′ W long.;

(3) 35°30.00′ N lat., 122°30.00′ W long.;

(4) 35°30.00′ N lat., 123°00.00′ W long.;

and connecting back to 35°54.00′ N lat., 123°00.00′ W long.

(ff) La Cruz Canyon. The boundary of the La Cruz Canyon EFHCA is defined by straight lines connecting all of the following points in the order stated:

(1) 35°42.85′ N lat., 121°25.92′ W long.;

(2) 35°42.83′ N lat., 121°26.31′ W long.;

(3) 35°43.63′ N lat., 121°26.92′ W long.;

(4) 35°45.14′ N lat., 121°27.61′ W long.;

(5) 35°46.88′ N lat., 121°27.80′ W long.;

(6) 35°49.15′ N lat., 121°29.43′ W long.;

(7) 35°49.53′ N lat., 121°28.71′ W long.;

(8) 35°49.15′ N lat., 121°27.84′ W long.;

(9) 35°48.68′ N lat., 121°27.58′ W long.;

(10) 35°47.84′ N lat., 121°27.75′ W long.;

(11) 35°46.50′ N lat., 121°26.57′ W long.;

(12) 35°45.40′ N lat., 121°25.99′ W long.;

(13) 35°44.19′ N lat., 121°24.69′ W long.;

(14) 35°43.83′ N lat., 121°26.52′ W long.;

and connecting back to 35°42.85′ N lat., 121°25.92′ W long.

(gg) West of Piedras Blancas State Marine Conservation Area. The boundary of the West of Piedras Blancas SMCA EFHCA is defined as the areas within the West Coast EEZ shoreward (east) of a boundary line defined by connecting the following coordinates in the order stated:

(1) 35°39.12′ N lat., 121°20.94′ W long.;

(2) 35°39.11′ N lat., 121°21.32′ W long.;

(3) 35°40.63′ N lat., 121°22.63′ W long.;

(4) 35°42.84′ N lat., 121°23.67′ W long.; and

(5) 35°42.85′ N lat., 121°22.81′ W long.

(hh) East San Lucia Bank. The boundary of the East San Lucia Bank EFHCA is defined by straight lines connecting all of the following points in the order stated:

(1) 34°45.09′ N lat., 121°05.73′ W long.;

(2) 34°39.90′ N lat., 121°10.30′ W long.;

(3) 34°43.39′ N lat., 121°14.73′ W long.;

(4) 34°52.83′ N lat., 121°14.85′ W long.;

(5) 34°52.82′ N lat., 121°05.90′ W long.;

and connecting back to 34°45.09′ N lat., 121°05.73′ W long.

(ii) Point Conception. The boundary of the Point Conception EFHCA is defined by straight lines connecting all of the following points in the order stated:

(1) 34°29.24′ N lat., 120°36.05′ W long.;

(2) 34°28.57′ N lat., 120°34.44′ W long.;

(3) 34°26.81′ N lat., 120°33.21′ W long.;

(4) 34°24.54′ N lat., 120°32.23′ W long.;

(5) 34°23.41′ N lat., 120°30.61′ W long.;

(6) 33°53.05′ N lat., 121°05.19′ W long.;

(7) 34°13.64′ N lat., 121°20.91′ W long.;

(8) 34°40.04′ N lat., 120°54.01′ W long.;

(9) 34°36.41′ N lat., 120°43.48′ W long.;

(10) 34°33.50′ N lat., 120°43.72′ W long.;

(11) 34°31.22′ N lat., 120°42.06′ W long.;

(12) 34°30.04′ N lat., 120°40.27′ W long.;

(13) 34°30.02′ N lat., 120°40.23′ W long.;

(14) 34°29.26′ N lat., 120°37.89′ W long.;

and connecting back to 34°29.24′ N lat., 120°36.05′ W long.

(jj) Harris Point. The boundary of the Harris Point EFHCA is defined by the mean high water line and straight lines connecting all of the following points in the order stated:

(1) 34°03.10′ N lat., 120°23.30′ W long.;

(2) 34°12.50′ N lat., 120°23.30′ W long.;

(3) 34°12.50′ N lat., 120°18.40′ W long.;

(4) 34°01.80′ N lat., 120°18.40′ W long.;

(5) 34°02.90′ N lat., 120°20.20′ W long.; and

(6) 34°03.50′ N lat., 120°21.30′ W long.

(kk) Harris Point Exception. An exemption to the Harris Point reserve, where commercial and recreational take of living marine resources is allowed, exists between the mean high water line in Cuyler Harbor and a straight line connecting all of the following points:

(1) 34°02.90′ N lat., 120°20.20′ W long.; and

(2) 34°03.50′ N lat., 120°21.30′ W long.

(ll) Richardson Rock. The boundary of the Richardson Rock EFHCA is defined by straight lines connecting all of the following points in the order stated:

(1) 34°10.40′ N lat., 120°28.20′ W long.;

(2) 34°10.40′ N lat., 120°36.29′ W long.;

(3) 34°02.21′ N lat., 120°36.29′ W long.;

(4) 34°02.21′ N lat., 120°28.20′ W long.;

and connecting back to 34°10.40′ N lat., 120°28.20′ W long.

(mm) Scorpion. The boundary of the Scorpion EFHCA is defined by the mean high water line and a straight line connecting all of the following points in the order stated:

(1) 34°02.94′ N lat., 119°35.50′ W long.;

(2) 34°09.35′ N lat., 119°35.50′ W long.;

(3) 34°09.35′ N lat., 119°32.80′ W long.; and

(4) 34°02.80′ N lat., 119°32.80′ W long.

(nn) Painted Cave. The boundary of the Painted Cave EFHCA is defined by the mean high water line and a straight line connecting all of the following points in the order stated:

(1) 34°04.50′ N lat., 119°53.00′ W long.;

(2) 34°05.20′ N lat., 119°53.00′ W long.;

(3) 34°05.00′ N lat., 119°51.00′ W long.; and

(4) 34°04.00′ N lat., 119°51.00′ W long.

(oo) Anacapa Island. The boundary of the Anacapa Island EFHCA is defined by the mean high water line and straight lines connecting all of the following points in the order stated:

(1) 34°00.80′ N lat., 119°26.70′ W long.;

(2) 34°05.00′ N lat., 119°26.70′ W long.;

(3) 34°05.00′ N lat., 119°21.40′ W long.; and

(4) 34°01.00′ N lat., 119°21.40′ W long.

(pp) Carrington Point. The boundary of the Carrington Point EFHCA is defined by the mean high water line and straight lines connecting all of the following points:

(1) 34°01.30′ N lat., 120°05.20′ W long.;

(2) 34°04.00′ N lat., 120°05.20′ W long.;

(3) 34°04.00′ N lat., 120°01.00′ W long.;

(4) 34°00.50′ N lat., 120°01.00′ W long.; and

(5) 34°00.50′ N lat., 120°02.80′ W long.

(qq) Judith Rock. The boundary of the Judith Rock EFHCA is defined by the mean high water line and a straight line connecting all of the following points in the order stated:

(1) 34°01.80′ N lat., 120°26.60′ W long.;

(2) 33°58.50′ N lat., 120°26.60′ W long.;

(3) 33°58.50′ N lat., 120°25.30′ W long.; and

(4) 34°01.50′ N lat., 120°25.30′ W long.

(rr) Skunk Point. The boundary of the Skunk Point EFHCA is defined by the mean high water line and straight lines connecting all of the following points in the order stated:

(1) 33°59.00′ N lat., 119°58.80′ W long.;

(2) 33°59.00′ N lat., 119°58.02′ W long.;

(3) 33°57.10′ N lat., 119°58.00′ W long.; and

(4) 33°57.10′ N lat., 119°58.20′ W long.

(ss) Footprint. The boundary of the Footprint EFHCA is defined by straight lines connecting all of the following points in the order stated:

(1) 33°59.00′ N lat., 119°26.00′ W long.;

(2) 33°59.00′ N lat., 119°31.00′ W long.;

(3) 33°54.11′ N lat., 119°31.00′ W long.;

(4) 33°54.11′ N lat., 119°26.00′ W long.;

and connecting back to 33°59.00′ N lat., 119°26.00′ W long.

(tt) Gull Island. The boundary of the Gull Island EFHCA is defined by the mean high water line and straight lines connecting all of the following points in the order stated:

(1) 33°58.02′ N lat., 119°51.00′ W long.;

(2) 33°58.02′ N lat., 119°53.00′ W long.;

(3) 33°51.63′ N lat., 119°53.00′ W long.;

(4) 33°51.62′ N lat., 119°48.00′ W long.; and

(5) 33°57.70′ N lat., 119°48.00′ W long.

(uu) South Point. The boundary of the South Point EFHCA is defined by the mean high water line and straight lines connecting all of the following points in the order stated:

(1) 33°55.00′ N lat., 120°10.00′ W long.;

(2) 33°50.40′ N lat., 120°10.00′ W long.;

(3) 33°50.40′ N lat., 120°06.50′ W long.; and

(4) 33°53.80′ N lat., 120°06.50′ W long.

(vv) Hidden Reef/Kidney Bank. The boundary of the Hidden Reef/Kidney Bank EFHCA is defined by straight lines connecting all of the following points in the order stated:

(1) 33°48.00′ N lat., 119°15.06′ W long.;

(2) 33°48.00′ N lat., 118°57.06′ W long.;

(3) 33°33.00′ N lat., 118°57.06′ W long.;

(4) 33°33.00′ N lat., 119°15.06′ W long.;

and connecting back to 33°48.00′ N lat., 119°15.06′ W long.

(ww) Catalina Island. The boundary of the Catalina Island EFHCA is defined by straight lines connecting all of the following points in the order stated:

(1) 33°34.71′ N lat., 118°11.40′ W long.;

(2) 33°25.88′ N lat., 118°03.76′ W long.;

(3) 33°11.69′ N lat., 118°09.21′ W long.;

(4) 33°19.73′ N lat., 118°35.41′ W long.;

(5) 33°23.90′ N lat., 118°35.11′ W long.;

(6) 33°25.68′ N lat., 118°41.66′ W long.;

(7) 33°30.25′ N lat., 118°42.25′ W long.;

(8) 33°32.73′ N lat., 118°38.38′ W long.;

(9) 33°27.07′ N lat., 118°20.33′ W long.;

and connecting back to 33°34.71′ N lat., 118°11.40′ W long.

(xx) Santa Barbara. The Santa Barbara EFHCA is defined by the mean high water line and straight lines connecting all of the following points in the order stated:

(1) 33°28.50′ N lat., 119°01.70′ W long.;

(2) 33°28.50′ N lat., 118°54.54′ W long.;

(3) 33°21.78′ N lat., 118°54.54′ W long.;

(4) 33°21.78′ N lat., 119°02.20′ W long.; and

(5) 33°27.90′ N lat., 119°02.20′ W long.

(yy) Potato Bank. Potato Bank is within the Western Cowcod Conservation Area, defined at § 660.70. The boundary of the Potato Bank EFHCA is defined by straight lines connecting all of the following points in the order stated:

(1) 33°11.00′ N lat., 119°55.67′ W long.;

(2) 33°21.00′ N lat., 119°55.67′ W long.;

(3) 33°21.00′ N lat., 119°45.67′ W long.;

(4) 33°11.00′ N lat., 119°45.67′ W long.;

and connecting back to 33°11.00′ N lat., 119°55.67′ W long.

(zz) Cherry Bank. Cherry Bank is within the Cowcod Conservation Area West, an area south of Point Conception. The Cherry Bank EFH Conservation Area is defined by straight lines connecting all of the following points in the order stated:

(1) 32°59.00′ N lat., 119°32.05′ W long.;

(2) 32°59.00′ N lat., 119°17.05′ W long.;

(3) 32°46.00′ N lat., 119°17.05′ W long.;

(4) 32°46.00′ N lat., 119°32.05′ W long.;

and connecting back to 32°59.00′ N lat., 119°32.05′ W long.

(aaa) Cowcod EFHCA East. The Cowcod EFHCA East is defined by straight lines connecting all of the following points in the order stated:

(1) 32°41.15′ N lat., 118°02.00′ W long.;

(2) 32°42.00′ N lat., 118°02.00′ W long.;

(3) 32°42.00′ N lat., 117°50.00′ W long.;

(4) 32°36.70′ N lat., 117°50.00′ W long.;

(5) 32°30.00′ N lat., 117°53.50′ W long.;

(6) 32°30.00′ N lat., 118°02.00′ W long.;

(7) 32°40.49′ N lat., 118°02.00′ W long.;

and connecting back to 32°41.15′ N lat., 118°02.00′ W long.

(bbb) Southern California Bight. The boundary of the Southern California Bight EFHCA is defined as the area that includes all waters within the West Coast EEZ that is: south of a straight line connecting 34°02.65′ N lat., 120°54.25′ W long. and 34°23.09′ N lat., 120°30.98′ W long.; shoreward (east and northeast) of the boundary line approximating the 700-fm (1280-m) depth contour, defined at § 660.76(b) and seaward (south and southwest) of a line defined by the inner boundary of the West Coast EEZ and a series of straight lines connecting the coordinates listed below in the order stated. The straight line segments and coordinates defined below exclude nearshore portions of the West Coast EEZ from this EFHCA.

(1) Northern Boundary. The northern boundary of the Southern California Bight EFHCA is a straight line connecting the following points in the order stated.

(i) 34°02.68′ N lat., 120°54.30′ W long.; and

(ii) 34°23.09′ N lat., 120°30.98′ W long.

(2) Santa Barbara Channel. In the area of the Santa Barbara Channel, the EFHCA extends seaward/southwest of a boundary line defined by straight lines connecting the following points in the order stated:

(i) 34°02.68′ N lat., 120°54.30′ W long.;

(ii) 34°23.09′ N lat., 120°30.98′ W long.;

(iii) 34°21.64′ N lat., 120°25.32′ W long.;

(iv) 34°23.55′ N lat., 120°15.12′ W long.;

(v) 34°20.15′ N lat., 119°57.09′ W long.;

(vi) 34°16.84′ N lat., 119°49.14′ W long.;

(vii) 34°11.24′ N lat., 119°42.12′ W long.;

(viii) 34°11.30′ N lat., 119°37.11′ W long.;

(ix) 34°09.89′ N lat., 119°29.78′ W long.;

(x) 34°09.19′ N lat., 119°27.45′ W long.;

(xi) 34°04.70′ N lat., 119°15.38′ W long.;

(xii) 34°03.33′ N lat., 119°12.93′ W long.; and

(xiii) 34°02.84′ N lat., 119°07.92′ W long.

(3) Santa Monica Bay. In the area of Santa Monica bay, the EFHCA extends seaward/southwest of a boundary line defined by straight lines connecting the following points in the order stated:

(i) 33°58.64′ N lat., 118°44.34′ W long.;

(ii) 33°55.90′ N lat., 118°36.39′ W long.;

(iii) 33°53.54′ N lat., 118°39.81′ W long.;

(iv) 33°50.10′ N lat., 118°36.30′ W long.; and

(v) 33°46.75′ N lat., 118°29.33′ W long.

(4) San Pedro Bay. In the area between Long Beach, CA and Newport Beach, CA, the EFHCA extends seaward/southwest of a boundary line defined by straight lines connecting the following points in the order stated:

(i) 33°39.28′ N lat., 118°16.82′ W long.;

(ii) 33°35.78′ N lat., 118°17.28′ W long.;

(iii) 33°33.74′ N lat., 118°12.53′ W long.;

(iv) 33°32.69′ N lat., 118°09.66′ W long.; and

(v) 33°33.70′ N lat., 117°57.43′ W long.

(5) San Clemente. In the area between Dana Point, CA and Oceanside, CA, the EFHCA extends seaward/southwest of a boundary line defined by straight lines connecting the following points in the order stated:

(i) 33°24.37′ N lat., 117°42.49′ W long.;

(ii) 33°16.07′ N lat., 117°34.74′ W long.; and

(iii) 33°09.00′ N lat., 117°25.27′ W long.

(6) San Diego. In the area west of San Diego, CA, the EFHCA extends seaward/west of a boundary line defined by straight lines connecting the following points in the order stated:

(i) 32°51.02′ N lat., 117°20.47′ W long.;

(ii) 32°46.31′ N lat., 117°23.44′ W long.;

(iii) 32°42.68′ N lat., 117°20.98′ W long.; and

(iv) 32°34.18′ N lat., 117°21.08′ W long.

15. In § 660.111, revise the introductory text and add the definitions of “Block area closures or BACs”, “Columbia River Salmon Conservation Zone”, “Klamath River Salmon Conservation Zone”, and “Stow or stowed,” in alphabetical order to read as follows:

§ 660.111 Trawl fishery—definitions.

These definitions are specific to the limited entry trawl fisheries covered in this subpart. General groundfish definitions are found at § 660.11.

* * * * *

Block area closures or BACs are a type of groundfish conservation area, defined at § 660.11, bounded on the north and south by commonly used geographic coordinates, defined at § 660.11, and on the east and west by boundary lines approximating depth contours, defined with latitude and longitude coordinates at §§ 660.71 through 660.74. BACs may be implemented or modified, off Oregon and California, as routine management measures, per regulations at § 660.60(c). BACs may vary in their shape and duration. Their shape and effective dates will be announced in the Federal Register. BACs may have a specific re-opening date as described in the Federal Register, or may be in effect until modified. BACs that are in effect until modified by Council recommendation and subsequent NMFS action are set out in Tables 1 (North) and 1 (South) of this subpart.

* * * * *

Columbia River Salmon Conservation Zone means the ocean area surrounding the Columbia River mouth bounded by a line extending for 6 nm due west from North Head along 46°18′ N lat. to 124°13.30′ W long., then southerly along a line of 167 True to 46°11.10′ N lat. and 124°11′ W long. (Columbia River Buoy), then northeast along Red Buoy Line to the tip of the south jetty.

* * * * *

Klamath River Salmon Conservation Zone means the ocean area surrounding the Klamath River mouth bounded on the north by 41°38.80′ N lat. (approximately 6 nm north of the Klamath River mouth), on the west by 124°23′ W long. (approximately 12 nm from shore), and on the south by 41°26.80′ N lat. (approximately 6 nm south of the Klamath River mouth).

* * * * *

Stow or stowed, for the purposes of this subpart, means the subject trawl gear is either stored below deck; or, if the gear cannot readily be moved, must be stowed in a secured and covered manner detached from all towing lines so that it is rendered unusable for fishing; or, if remaining on deck uncovered, must be stowed disconnected from the trawl doors with the trawl doors hung from their stanchions.

* * * * *

16. In § 660.112, revise the introductory text and paragraphs (a)(5)(i) through (vii), and remove (a)(5)(viii).

§ 660.112 Trawl fishery—prohibitions.

In addition to the general prohibitions specified in § 660.12 and § 600.725 of this chapter, it is unlawful for any person or vessel to:

* * * * *

(a) * * *

(5) * * *

(i) Operate any vessel registered to a limited entry permit with a trawl endorsement in an applicable GCA (defined at §§ 660.11 and 660.130), except for purposes of continuous transiting (defined at § 660.11), unless all groundfish trawl gear on board is stowed (as defined at § 660.111), or unless otherwise authorized at § 660.130.

(ii) Fish with bottom trawl gear (defined at § 660.11) anywhere within EFH seaward of a line approximating the 700-fm (1,280-m) depth contour, as defined in § 660.76. For the purposes of regulation, EFH seaward of 700-fm (1,280-m) within the EEZ is described at § 660.75.

(iii) Fish with bottom trawl gear (defined at § 660.11) with a footrope diameter greater than 19 inches (48 cm) (including rollers, bobbins or other material encircling or tied along the length of the footrope) anywhere within EFH within the EEZ. For the purposes of regulation, EFH within the EEZ is described at § 660.75.

(iv) Fish with bottom trawl gear (defined at § 660.11) with a footrope diameter greater than 8 inches (20 cm) (including rollers, bobbins or other material encircling or tied along the length of the footrope) anywhere within the EEZ shoreward of a line approximating the 100-fm (183-m) depth contour (defined at § 660.73).

(v) Fish with bottom trawl gear (defined at § 660.11), within the EEZ in the following EFHCAs areas (defined at §§ 660.77 and 660.78): Olympic 2, Biogenic 1, Biogenic 2, Quinault Canyon, Grays Canyon, Willapa Canyonhead, Willapa Deep, Biogenic 3, Astoria Deep, Astoria Canyon, Nehalem Bank/Shale Pile, Garibaldi Reef North, Garibaldi Reef South, Siletz Deepwater, Daisy Bank/Nelson Island, Newport Rockpile/Stonewall Bank, Hydrate Ridge, Heceta Bank, Deepwater off Coos Bay, Arago Reef, Bandon High Spot, Rogue Canyon, and Rogue River Reef.

(vi) Fish with bottom trawl gear (defined at § 660.11), other than demersal seine, unless otherwise specified in this section or § 660.130, within the EEZ in the following EFHCAs areas (defined at § 660.79): Brush Patch, Trinidad Canyon, Mad River Rough Patch, Samoa Deepwater, Eel River Canyon, Blunts Reef, Mendocino Ridge, Delgada Canyon, Tolo Bank, Navarro Canyon, Point Arena North, Point Arena South Biogenic Area, The Football, Gobbler's Knob, Point Reyes Reef, Cordell Bank/Biogenic Area, Rittenburg Bank, Farallon Islands/Fanny Shoal/Cochrane Bank, Farallon Escarpment, Half Moon Bay, Pescadero Reef, Pigeon Point Reef, Ascension Canyonhead, South of Davenport, Monterey Bay/Canyon, West of Sobranes Point, Point Sur Deep, Big Sur Coast/Port San Luis, La Cruz Canyon, West of Piedras Blancas State Marine Conservation Area, East San Lucia Bank, Point Conception, Hidden Reef/Kidney Bank (within Cowcod Conservation Area West), Catalina Island, Potato Bank (within Cowcod Conservation Area West), Cherry Bank (within Cowcod Conservation Area West), Cowcod EFHCA Conservation Area East, and Southern California Bight.

(vii) Fish with bottom contact gear (defined at § 660.11) within specific EFHCAs and the DCA, consistent with the prohibitions at § 660.12(a)(4), (16) through (18).

* * * * *

17. In § 660.130, revise paragraphs (a), (c), and (e), and add paragraph (f) to read as follows:

§ 660.130 Trawl fishery—management measures.

(a) General. This section applies to the limited entry trawl fishery. Most species taken in the limited entry trawl fishery will be managed with quotas (see § 660.140), allocations or set-asides (see § 660.150 or § 660.160), or cumulative trip limits (see trip limits in Tables 1 (North) and 1 (South) of this subpart), size limits (see § 660.60 (h)(5)), seasons (see Pacific whiting at § 660.131(b), subpart D), gear restrictions (see paragraphs (b) and (c) of this section) and closed areas (see paragraphs (c) and (e) of this section and §§ 660.70 through 660.79). The limited entry trawl fishery has gear requirements and harvest limits that differ by the type of groundfish trawl gear on board and the area fished. Groundfish vessels operating south of Point Conception must adhere to CCA restrictions (see paragraph (e)(1) of this section and § 660.70). The trip limits in Tables 1 (North) and 1 (South) of this subpart applies to vessels participating in the limited entry trawl fishery and may not be exceeded. Federal commercial groundfish regulations are not intended to supersede any more restrictive state commercial groundfish regulations relating to federally-managed groundfish.

* * * * *

(c) Restrictions by limited entry trawl gear type. Management measures may vary depending on the type of trawl gear (i.e., large footrope, small footrope, selective flatfish, or midwater trawl gear) used and/or on board a vessel during a fishing trip, cumulative limit period, and the area fished. Trawl nets may be used on and off the seabed. For some species or species groups, Table 1 (North) and Table 1 (South) of this subpart provide trip limits that are specific to different types of trawl gear: Large footrope, small footrope (including selective flatfish), selective flatfish, midwater, and multiple types. If Table 1 (North) and Table 1 (South) of this subpart provide gear specific limits or closed areas for a particular species or species group, prohibitions at §§ 660.12 and 660.112(a)(5) apply. Additional conservation areas applicable to vessels registered to limited entry permits with trawl endorsements are listed at paragraph (e) of this section.

(1) Fishing with large footrope trawl gear—(i) North of 46°16′ N lat. It is unlawful for any vessel using large footrope gear to fish for groundfish shoreward of the trawl RCA, defined at § 660.11 and with latitude and longitude coordinates at §§ 660.71 through 660.74. The use of large footrope gear is allowed where bottom trawling is allowed seaward of the trawl RCA.

(ii) South of 46°16′ N lat. It is unlawful for any vessel using large footrope gear to fish for groundfish shoreward of the boundary line approximating the 100 fm (183 m) depth contour defined with latitude and longitude coordinates at § 660.73. The use of large footrope gear is allowed where bottom trawling is allowed seaward of the boundary line approximating the 100 fm (183 m) depth contour.

(2) Fishing with small footrope trawl gear. The use of small footrope bottom trawl gear is allowed in all areas where bottom trawling is allowed with the following requirements:

(i) Fishing with selective flatfish trawl gear. The use of selective flatfish trawl gear, a type of small footrope trawl gear, is allowed in all areas where bottom trawling is allowed. Selective flatfish trawl gear is required shoreward of the boundary line approximating the 100 fm (183 m) depth contour between 42° N lat. and 40°10′ N lat. and fishing with all other types of small footrope trawl gear is prohibited in this area.

(ii) Salmon conservation area restrictions. The use of small footrope trawl, other than of selective flatfish trawl gear, is prohibited inside the Klamath River Salmon Conservation Zone and the Columbia River Salmon Conservation Zone (defined at § 660.131(e)(8)).

(3) Fishing with limited entry midwater trawl gear—(i) North of 40°10′ N lat., limited entry midwater trawl gear is required for vessels declared into the Pacific whiting fishery; limited entry midwater trawl gear is allowed for vessels declared into the non-whiting Shorebased IFQ Program during the Pacific whiting primary season.

(ii) South of 40°10′ N lat., vessels declared into limited entry midwater trawl are prohibited from operating, other than for the purpose of continuous transiting with prohibited gear stowed, shoreward of the boundary line approximating the 150 fm (274 m) depth contour, as defined with latitude and longitude coordinates at § 660.73. Vessels declared limited entry midwater trawl may operate seaward of a boundary line approximating the 150 fm (274 m) depth contour. See also paragraph (c)(4)(ii) of this section for additional restrictions.

(4) More than one type of trawl gear on board. The trip limits in Table 1 (North) or Table 1 (South) of this subpart must not be exceeded. A vessel may not have both groundfish trawl gear and non-groundfish trawl gear onboard simultaneously. A vessel may have more than one type of limited entry trawl gear on board (midwater, large or small footrope, including selective flatfish trawl), either simultaneously or successively, during a cumulative limit period except between 42° N lat. and 40°10′ N lat. as described in this section. If a vessel fishes both north and south of 40°10′ N lat. with any type of small or large footrope gear onboard the vessel at any time during the cumulative limit period, the most restrictive cumulative limit associated with the gear on board would apply for that trip and all catch would be counted toward that cumulative limit (See crossover provisions at § 660.60(h)(7)). When operating in an applicable GCA, all trawl gear must be stowed, consistent with prohibitions at § 660.112(a)(5)(i), unless authorized in this section.

(i) Vessels operating north of 40°10′ N lat.—(A) Limited entry bottom trawl gears. A vessel may have more than one type of limited entry bottom trawl gear on board (large or small footrope, including selective flatfish trawl), either simultaneously or successively, during a cumulative limit period with the following exception: Between 42° N lat. and 40°10′ N lat. and shoreward of the boundary line approximating the 100 fm (183 m) depth contour defined with latitude and longitude coordinates at § 660.73. In this area, vessels may not have any type of small footrope trawl gear other than selective flatfish trawl gear on board when fishing, per prohibitions at § 660.112(a)(5)(i).

(B) Limited entry midwater trawl gears. A vessel may have more than one type of midwater groundfish trawl gear on board, either simultaneously or successively, during a cumulative limit period.

(C) Limited entry selective flatfish trawl gear. If a vessel fishes exclusively with selective flatfish trawl gear during an entire cumulative limit period, then the vessel is subject to the selective flatfish trawl gear-cumulative limits during that limit period, regardless of whether the vessel is fishing shoreward or seaward of the trawl RCA or the boundary line approximating the 100 fm (183 m) depth contour defined with latitude and longitude coordinates at § 660.73.

(D) Cumulative limits. If a vessel fishes exclusively with large or small footrope trawl gear during an entire cumulative limit period, the vessel is subject to the cumulative limits for that gear. If more than one type of groundfish bottom trawl gear (selective flatfish, large footrope, or small footrope) is on board, either simultaneously or successively, at any time during a cumulative limit period, then the most restrictive cumulative limit associated with the groundfish bottom trawl gear on board during that cumulative limit period applies for the entire cumulative limit period.

(ii) Vessels operating south of 40°10′ N lat.- (A) Limited entry bottom trawl gears. A vessel may have more than one type of limited entry bottom trawl gear on board (large or small footrope, including selective flatfish trawl), either simultaneously or successively, during a cumulative limit period.

(B) Limited entry midwater trawl gear. Vessels may not operate, other than transiting through, with limited entry midwater trawl gear on board that is not stowed, consistent with § 660.112(a)(5), in the area shoreward of the boundary line approximating the 150 fm (274 m) depth contour defined with latitude and longitude coordinates at § 660.73. If a vessel fishes with limited entry bottom trawl gear in this area, vessels may have midwater trawl gear on board that is stowed, consistent with § 660.112(a)(5), and may fish seaward of the boundary line approximating the 150 fm (274 m) depth contour on the same trip with appropriate declaration changes. Vessels with groundfish on board harvested using limited entry midwater trawl gear may transit the area shoreward of the boundary line approximating the 150 fm (274 m) depth contour defined with latitude and longitude coordinates at § 660.73 if the midwater gear is stowed consistent with § 660.112(a)(5).

* * * * *

(e) Groundfish conservation areas (GCAs). GCAs are closed areas, defined at § 660.11, and using latitude and longitude coordinates specified at §§ 660.70 through 660.74. This paragraph describes GCAs applicable to the limited entry trawl fishery, per prohibitions at § 660.112(a)(5), and exceptions to those closures. Vessels with trawl gear on board that is not stowed, as defined at § 660.111, may not operate within a GCA listed in this section, unless authorized in this section. Vessels may not take and retain, possess, or land groundfish taken within an applicable GCA, except as authorized in this paragraph. A vessel authorized to fish within an applicable GCA may simultaneously have other groundfish trawl gear on board the vessel that is unlawful to use for fishing within the applicable GCAs, but only if the prohibited gear is stowed, as defined at § 660.111. Continuous transit, with or without groundfish on board, is allowed within an applicable GCA, only when all prohibited trawl gear on board stowed, as defined at § 660.111. Additional closed areas that specifically apply to vessels using limited entry midwater trawl gear are described at § 660.131(c).

(1) Cowcod conservation areas (CCAs). This closure applies to vessels with limited entry trawl gear on board. Limited entry trawl vessels may transit through the Western CCA within the transit corridor, defined at § 660.70.

(2) Farallon islands. Under California law, commercial fishing for all groundfish is prohibited around the Farallon Islands, as defined at § 660.70.Vessels may transit through with all trawl gear stowed.

(3) Cordell Banks. Commercial fishing for groundfish is prohibited in waters of depths less than 100-fm (183-m) around Cordell Banks, defined at § 660.70. Vessels may transit through with all trawl gear stowed.

(4) Trawl RCA. This GCA is off the coast of Washington, between the US/Canada border and 46°16′ N lat. Boundaries for the trawl RCA applicable to groundfish trawl vessels throughout the year are provided in the header to Table 1 (North) of this subpart and may be modified by NMFS inseason pursuant to § 660.60(c). Prohibitions at § 660.112(a)(5) do not apply under the following conditions and when the vessel has a valid declaration for the allowed fishing:

(i) Limited entry midwater trawl gear. Limited entry midwater trawl gear may be used within the trawl RCA by vessels targeting Pacific whiting or non-whiting when it is an authorized gear type for the area and season. If a vessel fishes in the trawl RCA using midwater trawl gear, it may also fish outside the trawl RCA with limited entry trawl gear on the same trip with appropriate declaration changes.

(ii) Transiting. A vessel authorized to operate in the trawl RCA may continuously transit through the trawl RCA, with or without groundfish on board, with prohibited trawl gear stowed, as defined at § 660.111.

(5) Block area closures or BACs. BACs, defined at § 660.111, are applicable to vessels with groundfish bottom trawl gear on board that is not stowed, per the prohibitions in § 660.112(a)(5). When in effect, BACs are areas closed to bottom trawl fishing. A vessel operating, for any purpose other than continuous transiting, in the BAC must have prohibited trawl gear stowed, as defined at § 660.111. Nothing in these Federal regulations supersedes any state regulations that may prohibit trawling shoreward of the fishery management area, defined at § 660.11. Prohibitions at § 660.112(a)(5) do not apply under any of the following conditions and when the vessel has a valid declaration for the allowed fishing:

(i) Limited entry midwater trawl. Limited entry midwater trawl gear may be used within the BAC only when it is an authorized gear type for the area and season. If a vessel fishes in the BAC using midwater trawl gear, it may also fish outside the BAC with groundfish bottom trawl gear on the same trip with appropriate declaration changes.

(ii) Transiting. A vessel authorized to operate in a BAC may continuously transit through the BAC, with or without groundfish on board, with prohibited trawl gear stowed, as defined at § 660.111.

(iii) Multiple gears. If a vessel fishes in a BAC using midwater trawl gear, it may also fish outside the BAC with groundfish bottom trawl gear on the same trip with the appropriate declaration change.

(6) Bycatch reduction areas or BRAs. Vessels using midwater groundfish trawl gear during the applicable Pacific whiting primary season may be prohibited from fishing shoreward of a boundary line approximating the 75 fm (137 m), 100 fm (183 m), 150 fm (274 m), or 200 fm (366 m) depth contours.

(7) Eureka management area midwater trawl trip limits. No more than 10,000-lb (4,536 kg) of whiting may be taken and retained, possessed, or landed by a vessel that, at any time during a fishing trip, fished with midwater groundfish trawl gear in the fishery management area shoreward of the boundary line approximating the 100 fm (183 m) depth contour in the Eureka management area, defined at § 660.11. See also midwater trawl depth restrictions in paragraph (c) of this section.

(8) Salmon conservation zones. Fishing with midwater trawl gear and bottom trawl gear, other than selective flatfish trawl gear, is prohibited in the Klamath River Salmon Conservation Zone and the Columbia River Salmon Conservation Zone (defined at § 660.111).

(f) Essential fish habitat conservation areas. EFHCAs are defined at § 660.11 and at §§ 660.76 through 660.79. EFHCAs apply to vessels using bottom trawl gear or to vessels using bottom contact gear, defined at § 660.11. Vessels may transit through, with or without groundfish on board, with all prohibited gear stowed. EFHCAs closed to bottom trawl gear are listed at § 660.112(a)(5)(v). EFHCAs off California that are closed to bottom trawl gear, except vessels fishing with a valid declaration for demersal seine gear, are listed in § 660.112(a)(5)(vi). EFHCAs closed to bottom contact gear are listed at § 660.12(a)(4), (16) and (17).

* * * * *

18. In § 660.131 revise paragraph (c) to read as follows.

§ 660.131 Pacific whiting fishery management measures.

* * * * *

(c) Closed areas. The conservation areas described here are in addition to conservation areas applicable to vessels operating with midwater trawl gear on board described in § 660.130(c) and (e). Vessels fishing during the Pacific whiting primary seasons shall not target Pacific whiting with midwater groundfish trawl gear in the following portions of the fishery management area:

(1) Klamath river salmon conservation zone, defined at § 660.111.

(2) Columbia river salmon conservation zone, defined at § 660.111.

(3) Bycatch reduction areas or BRAs. Bycatch reduction area closures specified at § 660.130(e) may be implemented inseason through automatic action when NMFS projects that a Pacific whiting sector will exceed an allocation for a non-whiting groundfish species specified for that sector before the sector's whiting allocation is projected to be reached.

* * * * *

19. Table 1 (North) to part 660, subpart D, is revised to read as follows:

Tables 1 (North) to Part 660, Subpart D—Limited Entry Trawl Rockfish Conservation Areas and Landing Allowances for Non-IFQ Species and Pacific Whiting North of 40°10′ N Lat

20. Table 1 (South) to part 660, subpart D, is revised to read as follows:

Table 1 (South) to Part 660, Subpart D—Limited Entry Trawl Landing Allowances for Non-IFQ Species and Pacific Whiting South of 40°10′ N Lat

21. In § 660.212, revise the introductory text and paragraph (c)(2), and remove paragraph (c)(3) to read as follows:

§ 660.212 Fixed gear fishery—prohibitions.

These prohibitions are specific to the limited entry fixed gear fisheries and to the limited entry trawl fishery Shorebased IFQ Program under gear switching. In addition to the general prohibitions specified in §§ 660.12 and 600.725 of this chapter, it is unlawful for any person to:

* * * * *

(c) * * *

(2) Fish with bottom contact gear (defined at § 660.11) within specific EFHCAs or the DCA, as specified in § 660.12(a).

* * * * *

22. Amend § 660.230 by:

a. Revising the introductory text for paragraph (d) and paragraphs (d)(10) and (11);

b. Removing paragraph (d)(14);

c. Adding paragraph (g).

The revisions and additions read as follows:

§ 660.230 Fixed gear fishery—management measures.

* * * * *

(d) Groundfish conservation areas. GCAs are defined by coordinates expressed in degrees of latitude and longitude. The latitude and longitude coordinates of the GCA boundaries are specified at §§ 660.70 through 660.74. A vessel that is authorized by this paragraph to fish within a GCA (e.g., fishing for “other flatfish” using no more than 12 hooks, “Number 2” or smaller), may not simultaneously have other gear on board the vessel that is unlawful to use for fishing within the GCA. The following GCAs apply to vessels participating in the limited entry fixed gear fishery.

* * * * *

(10) Cowcod Conservation Areas. It is unlawful to take and retain, possess, or land groundfish within the CCAs, except for species authorized in this paragraph caught according to gear requirements in this paragraph, when those waters are open to fishing. Commercial fishing vessels may transit through the Western CCA with their gear stowed and groundfish on board only in the transit corridor, defined at § 660.70. Fishing with limited entry fixed gear is prohibited within the CCAs, except as follows:

* * * * *

(11) Nontrawl Rockfish Conservation Area (RCA). The nontrawl RCA is defined at § 660.11 and with latitude and longitude coordinates, at §§ 660.71 through 660.74, where fishing for groundfish with nontrawl gear is prohibited. Boundaries for the nontrawl RCA throughout the year are provided in the header to Table 2 (North) and Table 2 (South) of this subpart and may be modified by NMFS inseason pursuant to § 660.60(c).

* * * * *

(g) Essential Fish Habitat Conservation Areas (EFHCA). EFHCAs, defined at § 660.11 and with latitude and longitude coordinates at §§ 660.75 through 660.79, apply to vessels using bottom contact gear, defined at § 660.11, and includes limited entry fixed gear (e.g. longline and pot/trap,) among other gear types. EFHCAs closed to bottom contact gear are listed at § 660.12(a).

23. Amend § 660.312 by revising the introductory text and paragraphs (d)(3) and (4), and adding paragraphs (d)(5) through (7), to read as follows:

§ 660.312 Open access fishery—prohibitions.

In addition to the general prohibitions specified in §§ 660.12 and 600.725 of this chapter, it is unlawful for any person to:

* * * * *

(d) * * *

(3) Fish with bottom contact gear (defined at § 660.11) within specific EFHCAs or the DCA, as specified in § 660.12(a).

(4) Fish with bottom trawl gear (defined at § 660.11) anywhere within EFH seaward of a line approximating the 700-fm (1280-m) depth contour, as defined in § 660.76. For the purposes of regulation, EFH seaward of 700-fm (1280-m) within the EEZ is described at § 660.75.

(5) Fish with bottom trawl gear (defined at § 660.11) with a footrope diameter greater than 8 inches (20 cm) (including rollers, bobbins or other material encircling or tied along the length of the footrope) anywhere within the EEZ shoreward of a line approximating the 100-fm (183-m) depth contour (defined at § 660.73).

(6) Fish with bottom trawl gear (defined at § 660.11), within the EEZ in the following EFHCAs (defined at §§ 660.77 and 660.78): Olympic 2, Biogenic 1, Biogenic 2, Quinault Canyon, Grays Canyon, Willapa Canyonhead, Willapa Deep, Biogenic 3, Astoria Deep, Astoria Canyon, Nehalem Bank/Shale Pile, Garibaldi Reef North, Garibaldi Reef South, Siletz Deepwater, Daisy Bank/Nelson Island, Newport Rockpile/Stonewall Bank, Hydrate Ridge, Heceta Bank, Deepwater off Coos Bay, Arago Reef, Bandon High Spot, Rogue Canyon, and Rogue River Reef.

(7) Fish with bottom trawl gear (defined at § 660.11), other than demersal seine, unless otherwise specified in this section or § 660.330, within the EEZ in the following EFHCAs (defined at § 660.79): Brush Patch, Trinidad Canyon, Mad River Rough Patch, Samoa Deepwater, Eel River Canyon, Blunts Reef, Mendocino Ridge, Delgada Canyon, Tolo Bank, Navarro Canyon, Point Arena North, Point Arena South Biogenic Area, The Football, Gobbler's Knob, Point Reyes Reef, Cordell Bank/Biogenic Area, Rittenburg Bank, Farallon Islands/Fanny Shoal/Cochrane Bank, Farallon Escarpment, Half Moon Bay, Pescadero Reef, Pigeon Point Reef, Ascension Canyonhead, South of Davenport, Monterey Bay/Canyon, West of Sobranes Point, Point Sur Deep, Big Sur Coast/Port San Luis, La Cruz Canyon, West of Piedras Blancas State Marine Conservation Area, East San Lucia Bank, Point Conception, Hidden Reef/Kidney Bank (within Cowcod Conservation Area West), Catalina Island, Potato Bank (within Cowcod Conservation Area West), Cherry Bank (within Cowcod Conservation Area West), Cowcod EFHCA Conservation Area East, and Southern California Bight.

24. Amend § 660.330 by:

a. Revising the introductory text for paragraph (d) and paragraph (d)(11),

b. Removing paragraph (d)(16), and

c. Adding paragraph (g).

The additions and revisions read as follows:

§ 660.330 Open access fishery—management measures.

* * * * *

(d) Groundfish conservation areas (GCAs). GCAs, a type of closed area, are defined at § 660.11 and with latitude and longitude coordinates at §§ 660.70 through 660.74. A vessel that is authorized by this paragraph to fish within a GCA (e.g. fishing for “other flatfish” using no more than 12 hooks, “Number 2” or smaller), may not simultaneously have other gear on board the vessel that is unlawful to use for fishing within the GCA. The following GCAs apply to vessels participating in the open access groundfish fishery.

* * * * *

(11) Cowcod Conservation Areas (CCAs). It is unlawful to take and retain, possess, or land groundfish within the CCAs, except for species authorized in this paragraph caught according to gear requirements in this paragraph, when those waters are open to fishing. Commercial fishing vessels may transit through the Western CCA with their gear stowed and groundfish on board only in the transit corridor, defined at § 660.70. Fishing with open access gear is prohibited in the CCAs, except as follows:

* * * * *

(g) Essential fish habitat conservation areas (EFHCA). EFHCAs, defined at § 660.11 and with latitude and longitude coordinates at §§ 660.75 through 660.79, apply to vessels using bottom trawl gear or bottom contact gear, defined at § 660.11, and includes non-groundfish trawl gear and limited entry fixed gear (e.g. longline and pot/trap,) among other gear types. EFHCAs closed to bottom contact gear are listed at § 660.12(a). EFHCAs closed to bottom trawl gear are listed at § 660.312(d).

[FR Doc. 2019-16493 Filed 8-14-19; 8:45 am]

BILLING CODE 3510-22-P